FEDERAL COMMUNICATIONS COMMISSION

47 CFR Parts 0, 1, 19, 20, 25, 27, 43, 52, 54, 63, 64, 67, 68, 73, 74, 76, 79, 80, 87, 90, 95, 97, and 101

[MD Docket No. 23-12; FCC 23-1; FR ID 134869]

Establishment of the Space Bureau and the Office of International Affairs and Reorganization of the Consumer and Governmental Affairs Bureau and the Office of the Managing Director

AGENCY: Federal Communications Commission.

ACTION: Final rule.

SUMMARY: In this document, the Federal Communications Commission (the Commission or FCC) takes action to modernize and streamline its operations by making changes to its International Bureau as well as certain parts of the Consumer and Governmental Affairs Bureau (CGB) and Office of Managing Director (OMD). In addition, we make other non-substantive rule revisions to reflect changes in Commission procedures and to modernize certain references to the Chairperson of the FCC.

DATES: Effective April 10, 2023. The incorporation by reference of material listed in this rule was approved by the Director before February 1, 2017.

FOR FURTHER INFORMATION CONTACT: Daniel Daly, Office of Managing Director at (202) 418-1832.

SUPPLEMENTARY INFORMATION: This is a summary of the Commission's Order, FCC 23-1, MD Docket No. 23-12, adopted on January 4, 2023 and released on January 9, 2023, which is the subject of this rulemaking. The full text of this document is available for public inspection and copying by downloading the text from the Commission's website at https://www.fcc.gov/document/fcc-votes-establish-space-bureau-office-international-affairs.

I. Procedural Matters

A. Final Regulatory Flexibility Analysis

1. No Final Regulatory Flexibility Analysis is required under the Regulatory Flexibility Act, 5 U.S.C. 604, because the amendments adopted herein pertain to agency organization, procedure, and practice, or because there is “good cause” to conclude that notice and comment and delayed effectiveness are unnecessary for non-substantive, editorial revisions.

B. Final Paperwork Reduction Act of 1995 Analysis

2. This document does not contain new or modified information collection requirements subject to the Paperwork Reduction Act of 1995, Public Law 104-13. In addition, therefore, it does not contain any new or modified information collection burden for small business concerns with fewer than 25 employees, pursuant to the Small Business Paperwork Relief Act of 2002, Public Law 107-198 see 44 U.S.C. 3506(c)(4).

C. Congressional Review Act

3. The Commission has determined, and the Administrator of the Office of Information and Regulatory Affairs, Office of Management and Budget, concurs that these rules are non-major under the Congressional Review Act, 5 U.S.C. 804(2). The Commission has sent a copy of this Order to Congress and the Government Accountability office, pursuant to 5 U.S.C. 801(a)(1)(A).

II. Introduction

4. In this Order, the Federal Communications Commission (the Commission or FCC) takes action to modernize and streamline its operations by making changes to its International Bureau as well as certain parts of the Consumer and Governmental Affairs Bureau (CGB) and Office of Managing Director (OMD). In this Order, we amend the Commission's rules to reflect these new organizational structures and describe the functions being realigned. We find it appropriate to make these organizational changes to strengthen the efficiency and effectiveness of the Commission's activities and operations. In addition, we make other non-substantive rule revisions to reflect changes in Commission procedures and to modernize certain references to the Chairperson of the FCC.

5. First, to better support United States leadership in the emerging space economy, to promote long-term technical capacity within the FCC to address non-federal satellite programs and policies, and to improve coordination with other agencies on issues related to space, we conclude that the proper dispatch of our business and the public interest will be served by reorganizing the International Bureau into: (1) a Space Bureau to handle policy and licensing matters related to satellite communications and other in-space activities under the Commission's jurisdiction; and (2) an Office of International Affairs to handle issues involving foreign and international regulatory authorities as well as international telecommunications and submarine cable licensing. We find these organizational changes will provide the FCC with the updated structure it needs to provide essential international leadership in the ever-evolving global telecommunications marketplace.

6. In addition, to improve the efficiency of the agency's operations, bolster the Commission's records and document management systems, and enhance public access to critical public records, the Commission has concluded that the proper dispatch of its business and the public interest will be served by taking the following actions:

a. Transfer the Reference Information Center (RIC) from CGB to the Office of the Secretary in OMD;

b. Merge the records management program in OMD's Performance Evaluation and Records Management (PERM) group with OMD's Information Technology (IT) group;

c. Rename PERM to be the Performance and Program Management (PPM) group in OMD; and

d. Transfer the Enterprise Acquisition Center (EAC) in the Front Office of OMD to a new stand-alone group in OMD.

III. Discussion

A. Establishment of Space Bureau and Office of International Affairs and Elimination of International Bureau

7. Under this reorganization, the Space Bureau will promote a competitive and innovative global telecommunications marketplace via space services. The Space Bureau will do so by undertaking policy analysis and rulemakings as well as authorizing satellite systems for the purpose of facilitating the deployment of satellite services, streamlining regulatory processes and maximizing flexibility for operators to meet customer needs, and fostering the efficient use of spectrum and orbital resources. The Space Bureau will also serve as a focal point for coordination with other U.S. government agencies on matters of space policy and governance, and will support the Office of International Affairs for meetings with other countries, international organizations and foreign government officials that involve space policy matters.

8. The Office of International Affairs will develop international telecommunications policy to facilitate competition in the provision of international services and further U.S. strategic objectives in global telecommunications policy. The Office of International Affairs will be responsible for policy development and licensing for international telecommunications facilities and services, submarine cables, and advising and making recommendations to the Commission on foreign ownership issues. The Office of International Affairs will also have responsibility for all intergovernmental leadership, negotiation, and representational functions. The Office of International Affairs will oversee and coordinate the FCC's global participation in international organizations and multilateral conferences, regional organizations, cross-border negotiations, and international standard setting efforts. The Office of International Affairs will also oversee bilateral meetings with other countries and foreign government officials.

9. To further these objectives and functions, the Space Bureau and the Office of International Affairs will utilize professional staff from within the Commission's current International Bureau as well as other parts of the Commission as needed.

10. To accomplish this organizational change, the following actions are taken.

• The Commission will eliminate the International Bureau and generally reallocate the International Bureau's authorities and functions between the Space Bureau and Office of International Affairs.

• The Space Bureau will consist of three divisions: the Satellite Programs and Policy Division, the Satellite Licensing Division, and the Earth Station Licensing Division. These new divisions will have responsibilities and authorities for the analysis and functions currently housed within the Satellite Division of the International Bureau, including its branches, the Policy Branch, the Engineering Branch, and the System Analysis Branch.

• The Office of International Affairs will consist of the Global Strategy and Negotiation Division and the Telecommunications and Analysis Division. The Global Strategy and Negotiation Division will be moved to the Office of International Affairs from the International Bureau as currently organized, including each of its existing Branches and will maintain its current responsibilities and authorities. Similarly, the Telecommunications and Analysis Division will be moved to the Office of International Affairs from the International Bureau as currently organized and will maintain its current responsibilities and authorities.

• The International Bureau's front office staff, including management and administrative staff within the front office, will be reassigned to the Space Bureau or the Office of International Affairs depending upon their roles and responsibilities.

11. Furthermore, to implement these changes, we delegate the authority to the Space Bureau and the Office of International Affairs to make any necessary edits and updates to the Commission's rules and any forms, policies, web addresses, systems, or other documents associated with the International Bureau to ensure all relevant references and procedures are updated consistent with the provisions of this Order, including any changes needed for renaming the International Bureau Filing System (IBFS) to the International Communications Filing System (ICFS). Any previous delegation to the International Bureau also is transferred to the Satellite Bureau and/or the Office of International Affairs, as appropriate.

B. Reorganization of the Consumer and Governmental Affairs Bureau and the Office of Managing Director

12. The key objectives of this reorganization are to strengthen the effectiveness and efficiency of the Commission's operations and management of prominent public-facing functions as well as vital internal information management operations.

1. Transfer the Reference Information Center to the Office of the Secretary

13. The RIC serves as the FCC custodian for designated public records, with functions including intake of records, file maintenance, reference services, retrieval of records, and retirement or archiving of files in accordance with record retention schedules approved by the National Archives and Records Administration (NARA). The RIC is also currently responsible for managing the Commission's Electronic Comment Filing System (ECFS) and scanning and uploading documents filed on paper into ECFS as needed.

14. Section 0.11 of the Commission's Rules instructs OMD to “direct agency efforts to improve management effectiveness, operational efficiency, employee productivity, and service to the public.” Pursuant to Section 0.11(b), the Secretary of the Commission is designated the “official custodian of the Commission's documents.” The Office of the Secretary in OMD oversees prompt and orderly processing of all matters presented to the Commission and supports the Commission decision-making process to ensure efficient operations. To preserve the integrity of the Commission's records, the Office of the Secretary supervises the receipt and distribution of documents filed by the public through electronic and paper filing systems. In addition, the Office of the Secretary gives effective legal notice of Commission decisions by publishing them in the Federal Register and the FCC Record. The Secretary serves as legal custodian of the Commission's official records and publishes official documents to the agency's website.

15. After this reorganization, the Office of the Secretary will be responsible for the management of ECFS in addition to the document custodial functions it performs today. Since the Office of the Secretary currently manages both electronic documents (EDOCS) and the Electronic Commission's Lifecycle Agenda Tracking System (ECLAS), the addition of ECFS to its list of responsibilities will create further efficiencies in the management and planning of these important internal and public facing systems.

16. In addition to giving it responsibility over ECFS, we transfer administration and management of the RIC from CGB to the Office of the Secretary. By taking this action, we locate the Commission's public records reference functions with the internal organization that currently carries out other reference functions, including management of the FCC Library.

17. We also update the Commission's rules to reflect the revised procedures for the public to access the RIC. Due to the updated security protocols associated with the FCC's new headquarters, all visitors to the RIC will be required to have a scheduled appointment in advance of accessing the facility.

2. Transfer of Records Management From PERM to IT

18. In OMD, the PERM group has responsibility for the administration and implementation of the FCC's agency-wide records management program, as opposed to the RIC which oversees an important subset of publicly available FCC records. PERM's records management program develops policies, procedures and processes to facilitate retrieval, selection, retention, and disposition of record and non-record materials and coordinates the records management program throughout the FCC and with NARA. The FCC's Agency Records Officer in PERM is responsible for complying with and updating the records schedules set by NARA.

19. As discussed at the outset of this Order, with our actions today, we merge and relocate the records management program and functions into OMD's IT group. The IT group is currently responsible for providing support and services for the information technology component of records management. Thus, merging the implementation and information technology components of these programs within the IT group will facilitate internal coordination and create additional efficiencies by eliminating unnecessary redundant oversight and management. Furthermore, integrating records management considerations into the development and implementation of the FCC's information systems will facilitate the records retention and disposal process, and strengthen compliance with records schedules.

20. As a result of this transfer, PERM will be renamed as the Performance and Program Management (PPM) group in OMD. The PPM group will retain all of PERM's previous functions with the exception of records management as described above.

3. Establish a Stand-Alone Enterprise Acquisition Center in OMD

21. To reflect the Commission's focus on strengthening all aspects of its procurement process, we conclude that the proper, efficient and effective dispatch of our business will be served by moving the EAC staff from the OMD Front Office and establishing EAC as a stand-alone group within OMD dedicated to the FCC's procurement activities. By establishing this group as a stand-alone entity, it is the Commission's objective to continue to improve efficiencies, independence, accountability and performance in the management of its acquisition strategy, planning and procurement activities.

C. Other Rule Changes

22. In addition to the changes otherwise identified herein, we update the Commission's rules by replacing the references to the agency's Chairman with references instead to the Chairperson throughout and revise other rules that refer to “chairman” to instead specify “chairperson.”

23. We also make minor modifications to reflect slight changes to procedures related to Privacy Act requests, to update rule 0.460 concerning requests for inspection and copies of records which are routinely available for public inspection to reflect current procedures, and to remove from the Code of Federal Regulations a display of approved information collections that is no longer updated and has become obsolete. We also eliminate certain Notes to rules and instead move the language from the Note into a subsection of the relevant rule to conform to the publishing conventions of the National Archives and Records Administration's Office of the Federal Register.

IV. Ordering Clauses

24. Accordingly, it is ordered that, pursuant to sections 4, 5(b), 5(c), and 303(r) of the Communications Act of 1934, as amended, 47 U.S.C. 154, 155(b), 155(c), 303(r), this Order is adopted.

25. It is further ordered that Parts 0, 1, 19, 20, 25, 27, 43, 52, 54, 63, 64, 67, 68, 73, 74, 76, 79, 80, 87, 90, 95, 97, and 101 of the Commission rules are amended as set forth in the Appendix.

26. It is further ordered that this Order will become effective on the date this Order is published in the Federal Register following the appropriate clearance in accordance with the Consolidated Appropriations Act, Public Law 117-103, at Division E, Title VI, § 608, 136 Stat. 287 (2022).

27. It is further ordered, that pursuant to section 801(a)(1)(A) of the Congressional Review Act, 5 U.S.C. 801(a)(1)(A), the Commission shall send a copy of this Order to Congress and to the Government Accountability Office.

List of Subjects

47 CFR Part 0

Authority delegations (Government agencies), Organization and functions.

47 CFR Part 1

Administrative practice and procedure.

47 CFR Part 19

Conflict of interest.

47 CFR Part 20

Administrative practice and procedure, Incorporation by reference.

47 CFR Part 25

Administrative practice and procedure, Incorporation by reference.

47 CFR Part 27

Administrative practice and procedure, Incorporation by reference.

47 CFR Part 43

Communications common carriers.

47 CFR Part 52

Communications common carriers, Incorporation by reference.

47 CFR Part 54

Communications common carriers.

47 CFR Part 63

Communications common carriers.

47 CFR Part 64

Communications common carriers, Incorporation by reference.

47 CFR Part 67

Incorporation by reference.

47 CFR Part 68

Administrative practice and procedure, Incorporation by reference.

47 CFR Part 73

Television.

47 CFR Part 74

Incorporation by reference, Telecommunications.

47 CFR Part 76

Incorporation by reference, Television.

47 CFR Part 79

Incorporation by reference, Telecommunications.

47 CFR Part 80

Incorporation by reference, Telephone.

47 CFR Part 87

Incorporation by reference, Reporting and recordkeeping requirements.

47 CFR Part 90

Administrative practice and procedure, Incorporation by reference.

47 CFR Part 95

Incorporation by reference, Telecommunications.

47 CFR Part 97

Satellites.

47 CFR Part 101

Administrative practice and procedure.

Federal Communications Commission.
Marlene Dortch,
Secretary.

Final Rules

For the reasons discussed in the preamble, the Federal Communications Commission amends 47 CFR chapter I as follows:

PART 0—COMMISSION ORGANIZATION

1. The authority citation for part 0 continues to read as follows:

Authority: 47 U.S.C. 151, 154(i), 154(j), 155, 225, and 409, unless otherwise noted.

2. Amend § 0.3 by revising the section heading and paragraphs (a) introductory txt and (b) to read as follows:

§ 0.3 The Chairperson.

(a) One of the members of the Commission is designated by the President to serve as Chairperson, or chief executive officer, of the Commission. As Chairperson, he/she has the following duties and responsibilities:

* * * * *

(b) The Commission will, in the case of a vacancy in the Office of the Chairperson of the Commission, or in the absence or inability of the Chairperson to serve, temporarily designate one of its members to act as Chairperson until the cause or circumstance requiring such designation has been eliminated or corrected.

3. Amend section § 0.5 by revising paragraphs (a) introductory text and (a)(11) through (17) and adding paragraph (a)(18) to read as follows:

§ 0.5 General description of Commission organization and operations.

(a) Principal staff units. The Commission is assisted in the performance of its responsibilities by its staff, which is divided into the following principal units:

* * * * *

(11) Office of International Affairs.

(12) Wireline Competition Bureau.

(13) Wireless Telecommunications Bureau.

(14) Space Bureau.

(15) Media Bureau.

(16) Enforcement Bureau.

(17) Consumer and Governmental Affairs Bureau.

(18) Public Safety and Homeland Security Bureau.

* * * * *

4. Amend § 0.11 by revising paragraphs (a) introductory text, (a)(2) through (4) and (11), and (b) to read as follows:

§ 0.11 Functions of the Office.

(a) The Managing Director is appointed by the Chairperson with the approval of the Commission. Under the supervision and direction of the Chairperson, the Managing Director shall serve as the Commission's chief operating and executive official with the following duties and responsibilities:

* * * * *

(2) Formulate and administer all management and administrative policies, programs, and directives for the Commission consistent with authority delegated by the Commission and the Chairperson and recommend to the Chairperson and the Commission major changes in such policies and programs.

(3) Assist the Chairperson in carrying out the administrative and executive responsibilities delegated to the Chairperson as the administrative head of the agency.

(4) Advise the Chairperson and Commission on management, administrative, and related matters; review and evaluate the programs and procedures of the Commission; initiate action or make recommendations as may be necessary to administer the Communications Act most effectively in the public interest. Assess the management, administrative, and resource implications of any proposed action or decision to be taken by the Commission or by a Bureau or Office under delegated authority; recommend to the Chairperson and Commission program priorities, resource and position allocations, management, and administrative policies.

* * * * *

(11) Advise the Chairperson, Commission, and Commission Bureaus and Offices on matters concerning the development, administration, and management of the Affordable Connectivity Outreach Grant Program.

(b) The Secretary is the official custodian of the Commission's documents. The Office of the Secretary also serves as the official FCC records custodian for designated records, including intake processing, organization and file maintenance, reference services, and retirement and retrieval of records; manages the Electronic Comment Filing System and certifies records for adjudicatory and court proceedings; maintains manual and computerized files that provide for the public inspection of public record materials concerning Broadcast Ownership, AM/FM/TV, TV translators, FM Translators, Cable TV, Wireless, Auction, Common Carrier Tariff matters, International space station files, earth station files, DBS files, and other miscellaneous international files; maintains for public inspection Time Brokerage and Affiliation Agreements, court citation files, and legislative histories concerning telecommunications dockets and provides the public and Commission staff prompt access to manual and computerized records and filing systems.

* * * * *

5. Amend § 0.13 by revising the introductory text and paragraph (d) to read as follows:

§ 0.13 Functions of the Office.

The Office of Inspector General is directly responsible to the Chairperson as head of the agency. However, the Chairperson may not prevent or prohibit the Office of Inspector General from carrying out its duties and responsibilities as mandated by the Inspector General Act Amendments of 1988 (Pub. L. 100-504) and the Inspector General Act of 1978 (5 U.S.C. Appendix 3), as amended.

* * * * *

(d) Keep the Chairperson of the Commission—and through him or her the other Commissioners—and the Congress fully and currently informed concerning fraud and other serious problems, abuses, and deficiencies relating to the administration of Commission programs and operations; recommend corrective action and report on the progress made in implementing such corrective action. In addition to providing the Chairperson with the results of completed audits and inspections, the Inspector General shall prepare statutorily required reports, identified as such, to include:

(1) Semiannual reports summarizing activities of the office during the preceding six-month period (due to the Chairperson by April 30 and October 31);

(2) Special reports specifically identifying any serious or flagrant problems, abuses or deficiencies (due to the Chairperson immediately upon discovery of these matters by the Inspector General).

6. Amend § 0.17 by revising paragraph (d) to read as follows:

§ 0.17 Functions of the Office.

* * * * *

(d) Assist the Chairperson and Commissioners in preparation for, and the coordination of their appearances before the Committees of Congress.

* * * * *

7. Add § 0.19 before the undesignated center heading “Office of Economics and Analytics” to read as follows:

§ 0.19 Functions of the Office.

The Office of International Affairs has the following duties and responsibilities:

(a) To initiate and direct the development and articulation of international telecommunications policies, consistent with the priorities of the Commission.

(b) To advise the Chairperson and Commissioners on matters of international telecommunications policy, and on the adequacy of the Commission's actions to promote the vital interests of the American public in international commerce, national defense, and foreign policy.

(c) To represent the Commission on international communications matters, including matters involving international, regional, and cross border spectrum allocation and frequency coordination at both domestic and international conferences and meetings, and to direct and coordinate the Commission's preparation for such conferences and meetings.

(d) To direct and coordinate, in consultation with other Bureaus and Offices as appropriate, negotiation of international agreements to provide for arrangements and procedures for coordination of radio frequency assignments to prevent or resolve international radio interference involving U.S. licensees.

(e) To ensure fulfillment of the Commission's responsibilities under international agreements and treaty obligations, and consistent with Commission policy, in coordination with other Bureaus and Offices as appropriate, to ensure that the Commission's regulations, procedures, and frequency allocations comply with the mandatory requirements of all applicable international and bilateral agreements.

(f) To serve as the single focal point within the Commission for cooperation and consultation on international telecommunications matters with other Federal agencies, international or foreign organizations, and appropriate regulatory bodies and officials of foreign governments.

(g) To develop, recommend, and administer policies, rules, standards, and procedures regarding the authorization and regulation of international telecommunications facilities and services, submarine cables, international broadcast services, and foreign ownership issues.

(h) To develop, recommend, and administer policies, rules, standards, and procedures regarding coordination with Executive Branch agencies on national security, law enforcement, foreign policy, trade policy, or concerns.

(i) To monitor compliance with the terms and conditions of authorizations and licenses and pursue enforcement actions in conjunction with appropriate bureaus and offices.

(j) To develop, coordinate with other Federal agencies, and administer the regulatory assistance and training programs for foreign administrations to promote telecommunications development.

(k) To provide advice and technical assistance to U.S. trade officials in the negotiation and implementation of communications trade agreements, and consult with other bureaus and offices as appropriate with respect thereto.

(l) To conduct economic, legal, technical, statistical, and other appropriate studies, surveys, and analyses in support of international telecommunications policies and programs.

(m) To collect and disseminate within the Commission information and data on international communications policies, regulatory and market developments in other countries, and international organizations.

(n) To work with the Office of Legislative Affairs to coordinate the Commission's activities on significant matters of international policy with appropriate Congressional offices.

(o) To advise the Chairperson on priorities for international travel and develop, coordinate, and administer the international travel plan.

(p) Managing efforts across the Bureaus and Offices to participate in international standards activities and serving as the FCC's senior representative at in-person standards meetings around the world in conjunction with staff from other Bureaus and Offices as needed.

(q) To issue orders revoking a common carrier's operating authority pursuant to section 214 of the Act, and issue orders to cease and desist such operations, in cases where the presiding officer has issued a certification order to the Commission that the carrier has waived its opportunity for hearing under that section.

(r) To exercise the authority to issue non-hearing related subpoenas for the attendance and testimony of witnesses and the production of books, papers, correspondence, memoranda, schedules of charges, contracts, agreements, and any other records deemed relevant to the investigation of matters within the jurisdiction of the Office of International Affairs. Before issuing a subpoena, the Office of International Affairs shall obtain the approval of the Office of General Counsel.

(s) To assist the Consumer and Governmental Affairs Bureau on issues involving informal consumer complaints and other general inquiries by consumers.

(t) To coordinate with the Public Safety and Homeland Security Bureau on all matters affecting public safety, homeland security, national security, emergency management, disaster management, and related issues.

8. Amend § 0.31 by revising paragraph (b) to read as follows:

§ 0.31 Functions of the Office.

* * * * *

(b) Represent the Commission at various national conferences and meetings (and, in consultation with the Office of International Affairs, at various international conferences and meetings) devoted to the progress of communications and the development of technical and other information and standards, and serve as Commission coordinator for the various national conferences when appropriate.

* * * * *

9. Amend § 0.41 by revising paragraph (h) to read as follows:

§ 0.41 Functions of the Office.

* * * * *

(h) To cooperate with the Space Bureau on all matters pertaining to space policy and satellite communications.

* * * * *

10. Revise § 0.51 to read as follows:

§ 0.51 Functions of the Bureau.

The Space Bureau has the following duties and responsibilities:

(a) To develop, recommend, and administer policies, rules, standards, and procedures for the authorization and regulation of domestic and international satellite systems.

(b) To monitor compliance with the terms and conditions of authorizations and licenses granted by the Bureau, and to pursue enforcement actions in conjunction with appropriate bureaus and offices.

(c) To facilitate the international coordination of U.S. spectrum allocations for space-based services and frequency and orbital assignments so as to minimize cases of international radio interference involving U.S. licensees.

(d) To coordinate, in consultation with other Bureaus and Offices as appropriate, negotiation of arrangements and procedures for coordination of radio frequency assignments for space-based services to prevent or resolve international radio interference involving U.S. space station and/or earth station licensees.

(e) To ensure fulfillment of the Commission's responsibilities under international agreements and treaty obligations in coordination with the Office of International Affairs, and, consistent with Commission policy, to ensure that the Commission's regulations, procedures, and frequency allocations comply with the mandatory requirements of all applicable international and bilateral agreements involving space-based services.

(f) In coordination with the Office of International Affairs, to oversee and, as appropriate, administer activities pertaining to the international consultation, coordination, and notification of U.S. frequency and orbital assignments, including activities required by bilateral agreements, the international Radio Regulations, and other international agreements.

(g) To serve as a focal point for coordination with other U.S. government agencies on matters of space policy, licensing and governance and, to support the Office of International Affairs with other Federal agencies, international or foreign organizations, and appropriate regulatory bodies and officials of foreign governments for meetings that involve space policy matters.

(h) To exercise authority to issue non-hearing related subpoenas for the attendance and testimony of witnesses and the production of books, papers, correspondence, memoranda, schedules of charges, contracts, agreements, and any other records deemed relevant to the investigation of matters within the jurisdiction of the Space Bureau. Before issuing a subpoena, the Space Bureau shall obtain the approval of the Office of General Counsel.

(i) To assist the Consumer and Governmental Affairs Bureau on issues involving informal consumer complaints and other general inquiries by consumers.

(j) To coordinate with the Public Safety and Homeland Security Bureau on all matters affecting public safety, homeland security, national security, emergency management, disaster management, and related issues.

11. Amend § 0.81 by revising paragraphs (b)(1) and (9) to read as follows:

§ 0.81 Functions of the Office.

* * * * *

(b) * * *

(1) Through its Director, serves as the principal advisor to the Chairperson and Commission officials on all aspects of workplace diversity, affirmative recruitment, equal employment opportunity, non-discrimination, and civil rights;

* * * * *

(9) Manages the Commission's equal employment opportunity compliance program. Responsibilities in this area include processing complaints alleging discrimination, recommending to the Chairperson final decisions on EEO complaints within the Commission, and providing counseling services to employees and applicants on EEO matters;

* * * * *

12. Amend § 0.111 by:

a. Redesignating Note to paragraph (a)(1) as Note 1 to paragraph (a)(1);

b. Revising the second sentence of newly redesignated Note 1 to paragraph (a)(1);

c. Redesignating the following notes:

i. Note to paragraph (a)(2) as Note 2 to paragraph (a)(2);

ii. Note to paragraph (a)(4) as Note 3 to paragraph (a)(4);

iii. Note to paragraph (a)(6) as Note 4 to paragraph (a)(6);

iv. Note to paragraph (a)(8) as Note 5 to paragraph (a)(8);

v. Note to paragraph (a)(11) as Note 6 to paragraph (a)(11); and

vi. Note to paragraph (a)(13) as Note 7 to paragraph (a)(13); and

c. Revising paragraph (c).

The revisions read as follows:

§ 0.111 Functions of the Bureau.

(a) * * *

Note 1 to paragraph (a)(1): * * * The Office of International Affairs has primary responsibility for complaints regarding international settlements rules and policies.

* * * * *

(c) In coordination with the Office of International Affairs, participate in international conferences dealing with monitoring and measurement; serve as the point of contact for the U.S. Government in matters of international monitoring, fixed and mobile direction-finding and interference resolution; and oversee coordination of non-routine communications and materials between the Commission and international or regional public organizations or foreign administrations.

* * * * *

13. Amend § 0.131 by revising paragraphs (e) and (k) to read as follows:

§ 0.131 Functions of the Bureau.

* * * * *

(e) Develops and recommends policy, rules, standards, procedures and forms for the authorization and regulation of wireless telecommunications facilities and services, including all facility authorization applications involving domestic terrestrial transmission facilities. Coordinates with and assists the Space Bureau regarding frequency assignment, coordination and interference matters.

* * * * *

(k) Coordinates with and assists the Office of International Affairs with respect to treaty activities and international conferences concerning wireless telecommunications and standards.

* * * * *

14. Amend § 0.141 by revising paragraph (h) to read as follows:

§ 0.141 Functions of the Bureau.

* * * * *

(h) Periodically reviews the status of open docketed proceedings, and following:

(1) Consultation with and concurrence from the relevant bureau or office with responsibility for a particular proceeding,

(2) The issuance of a public notice listing proceedings under consideration for termination, and,

(3) A reasonable period during which interested parties may comment, closes any docket in which no further action is required or contemplated (with termination constituting a final determination in any such proceeding).

* * * * *

15. Amend § 0.181 by revising paragraph (g) to read as follows:

§ 0.181 The Defense Commissioner.

* * * * *

(g) In the event of enemy attack, or the imminent threat thereof, or other disaster resulting in the inability of the Commission to function at its offices in Washington, DC, to assume all of the duties and responsibilities of the Commission and the Chairperson, until relieved or augmented by other Commissioners or members of the staff, as set forth in §§ 0.186 and 0.383.

* * * * *

16. Amend § 0.186 by revising paragraph (b) to read as follows:

§ 0.186 Emergency Relocation Board.

* * * * *

(b) The Board shall comprise such Commissioners as may be present (including Commissioners available through electronic communications or telephone) and able to act. In the absence of the Chairperson, the Commissioner present with the longest seniority in office will serve as acting Chairperson. If no Commissioner is present and able to act, the person designated as next most senior official in the Commission's Continuity of Operations Plan will head the Board.

17. Amend § 0.204 by revising paragraphs (b) and (c)(3) to read as follows:

§ 0.204 The exercise of delegated authority.

* * * * *

(b) Authority of subordinate officials. Authority delegated to any official to issue orders or to enter into correspondence under paragraph (a) of this section may be exercised by that official or by appropriate subordinate officials acting for him/her.

(c) * * *

(3) General correspondence by a committee or board is signed by the committee or board chairperson.

* * * * *

18. Amend § 0.211 by revising the section heading, introductory text, and paragraphs (a) through (c) to read as follows:

§ 0.211 Chairperson.

The responsibility for the general administration of internal affairs of the Commission is delegated to the Chairperson of the Commission. The Chairperson will keep the Commission advised concerning his actions taken under this delegation of authority. This authority includes:

(a) Actions of routine character as to which the Chairperson may take final action.

(b) Actions of non-routine character which do not involve policy determinations. The Chairperson may take final action on these matters but shall specifically advise the Commission on these actions.

(c) Actions of an important character or those which involve policy determinations. In these matters the Chairperson will develop proposals for presentation to the Commission.

* * * * *

19. Amend § 0.212 by revising the first sentence of paragraph (a) to read as follows:

§ 0.212 Board of Commissioners.

(a) Whenever the Chairperson or Acting Chairperson of the Commission determines that a quorum of the Commission is not present or able to act, he/she may convene a Board of Commissioners. * * *

* * * * *

20. Amend § 0.231 by revising paragraph (g) to read as follows:

§ 0.231 Authority delegated.

* * * * *

(g) The Managing Director, after consultation with the Chairperson shall establish, renew, and terminate all Federal advisory committees. He/She shall also exercise all management responsibilities under the Federal Advisory Committee Act as amended (Pub. L. No. 92-463, 5 U.S.C. App.).

* * * * *

21. Amend § 0.251 by revising paragraph (e) to read as follows:

§ 0.251 Authority delegated.

* * * * *

(e) The official record of all actions taken by the General Counsel pursuant to paragraphs (c) and (d) of this section is contained in the original docket folder, which is maintained by the Reference Information Center.

* * * * *

22. Revise § 0.261 to read as follows:

§ 0.261 Authority delegated.

(a) Subject to the limitations set forth in paragraph (b) of this section, the Chief, Space Bureau, is hereby delegated the authority to perform the functions and activities described in § 0.51, including without limitation the following:

(1) To recommend rulemakings, studies, and analyses (legal, engineering, social, and economic) of various petitions for policy or rule changes submitted by industry or the public, and to assist the Commission in conducting the same.

(2) To act upon applications for satellite systems and earth stations pursuant to part 25 of this chapter.

(3) In conjunction with the Office of International Affairs, to notify the International Telecommunication Union (ITU) of the United States' terrestrial and satellite assignments for inclusion in the Master International Frequency Register.

(4) To interpret and enforce rules and regulations pertaining to matters under its jurisdiction and not within the jurisdiction of the Enforcement Bureau.

(b) Notwithstanding the authority delegated in paragraph (a) of this section, the Chief, Space Bureau, shall not have authority:

(1) To act on any application, petition, pleading, complaint, enforcement matter, or other request that:

(i) Presents new or novel arguments not previously considered by the Commission;

(ii) Presents facts or arguments which appear to justify a change in Commission policy; or

(iii) Cannot be resolved under outstanding precedents and guidelines after consultation with appropriate Bureaus or Offices.

(2) To issue notices of proposed rulemaking, notices of inquiry, or reports or orders arising from rulemaking or inquiry proceedings;

(3) To act upon any application for review of actions taken by the Chief, Space Bureau, pursuant to delegated authority, except that the Chief of the Space Bureau may dismiss any such application that does not contain any statement required under § 1.115(a) or (b) of this chapter, or does not comply with the filing requirements of § 1.115(d) or (f) of this chapter;

(4) To act upon any formal or informal radio application which is in hearing status;

(5) To designate for hearing any applications except:

(i) Mutually exclusive applications for radio facilities filed pursuant to part 25, of this chapter; and

(ii) Applications for facilities where the issues presented relate solely to whether the applicant has complied with outstanding precedents and guidelines; or

(6) To impose, reduce, or cancel forfeitures pursuant to section 203 or section 503(b) of the Communications Act of 1934, as amended, in amounts of more than $80,000 for common carrier providers and $20,000 for non-common carrier providers.

23. Revise § 0.262 to read as follows:

§ 0.262 Record of actions taken.

The application and authorization files in the appropriate central files of the Space Bureau are designated as the Commission's official records of actions by the Chief, Space Bureau, pursuant to authority delegated to the Chief. The official records of action are maintained in the Reference Information Center.

24. Revise § 0.272 to read as follows:

§ 0.272 Record of actions taken.

The application and authorization files and other appropriate files of the Office of Economics and Analytics are designated as the Commission's official records of action of the Chief, Office of Economics and Analytics, pursuant to authority delegated to the Chief. The official records of action are maintained by the Reference Information Center.

25. Revise § 0.285 to read as follows:

§ 0.285 Record of actions taken.

The history card, the station file, and other appropriate files are designated to be the official records of action taken by the Chief of the Media Bureau. The official records of action are maintained by the Reference Information Center.

26. Amend § 0.291 by revising paragraph (e) to read as follows:

§ 0.291 Authority delegated.

* * * * *

(e) Authority concerning rulemaking and investigatory proceedings. The Chief, Wireline Competition Bureau, shall not have authority to issue notices of proposed rulemaking, notices of inquiry, or reports or orders arising from either of the foregoing, except that the Chief, Wireline Competition Bureau, shall have authority, in consultation and coordination with the Chief, Office of International Affairs, to issue and revise a manual on the details of the reporting requirements for international carriers referenced in § 43.61(a)(3) of this chapter.

* * * * *

27. Revise § 0.302 to read as follows:

§ 0.302 Record of actions taken.

The application and authorization files are designated as the Commission's official records of action of the Chief, Wireline Competition Bureau pursuant to authority delegated to the Chief. The official records of action are maintained by the Reference Information Center.

28. Revise § 0.317 to read as follows:

§ 0.317 Record of action taken.

The application, authorization, and other appropriate files of the Enforcement Bureau are designated as the Commission's official records of action taken pursuant to authority delegated under §§ 0.311 and 0.314, and shall constitute the official Commission minutes entry of such actions. The official records of action are maintained by the Reference Information Center.

29. Add § 0.351 before the undesignated center heading “Consumer and Governmental Affairs Bureau” to read as follows:

§ 0.351 Authority delegated.

(a) The Chief, Office of International Affairs, is hereby delegated the authority to perform the functions and activities described in § 0.19, including without limitation the following:

(1) To assume the principal representational role on behalf of the Commission in international conferences, meetings, and negotiations, and direct Commission preparation for such conferences, meetings, and negotiations with other Bureaus and Offices, as appropriate.

(2) To administer Commission participation in the International Telecommunication Union (ITU) Fellowship telecommunication training program for foreign officials offered through the U.S. Telecommunications Training Institute.

(3) In consultation with the affected Bureaus and Offices, to recommend revision of Commission rules and procedures as appropriate to conform to the outcomes of international conferences, agreements, or treaties.

(4) To recommend rulemakings, studies, and analyses (legal, engineering, social, and economic) of various petitions for policy or rule changes submitted by industry or the public, and to assist the Commission in conducting the same.

(5) To administer and enforce the policies and rules on international settlements under part 64 of this chapter.

(6) To interpret and enforce rules and regulations pertaining to matters under its jurisdiction and not within the jurisdiction of the Enforcement Bureau.

(7) To conduct studies and compile such data relating to international telecommunications as may be necessary for the Commission to develop and maintain an adequate regulatory program.

(8) To act upon applications for international telecommunications and services pursuant to relevant portions of part 63 of this chapter, and coordinate with the Wireline Competition Bureau as appropriate.

(9) To act upon applications for cable landing licenses pursuant to § 1.767 of this chapter.

(10) To act upon applications relating to international broadcast station operations, or for permission to deliver programming to foreign stations, under part 73 of this chapter.

(11) To administer and make available on a public website, a standardized set of national security and law enforcement questions for the categories of information set forth in part 1, subpart CC, of this chapter.

(12) To act upon requests for designation of Recognized Private Operating Agency (RPOA) status under part 63 of this chapter.

(13) Overseeing a team of staff from the FCC's Bureaus and Offices for the purposes of developing Commission positions related to international standard setting issues; collaborating on behalf of the FCC with other Federal agencies on international standard setting issues; and serving as the Chairperson's primary point of contact to develop goals and facilitate strategic decisions about FCC engagement in international standard setting efforts.

(14) To administer portions of part 2 of this chapter dealing with international treaties and call sign provisions, and to make call sign assignments, individually and in blocks, to U.S. government agencies and FCC operating bureaus.

(15) To make technical and ministerial edits to the rules adopted in the 2016 Report and Order in the review of foreign ownership policies for broadcast, common carrier, and aeronautical radio licensees to ensure that the Commission's rules continue to refer to the correct Securities and Exchange Commission rules and forms. 31 FCC Rcd 11272.

(b) Notwithstanding the authority delegated in paragraph (a) of this section, the Chief, Office of International Affairs, shall not have authority:

(1) To act on any application, petition, pleading, complaint, enforcement matter, or other request that:

(i) Presents new or novel arguments not previously considered by the Commission;

(ii) Presents facts or arguments which appear to justify a change in Commission policy; or

(iii) Cannot be resolved under outstanding precedents and guidelines after consultation with appropriate Bureaus or Offices.

(2) To issue notices of proposed rulemaking, notices of inquiry, or reports or orders arising from rulemaking or inquiry proceedings;

(3) To act upon any application for review of actions taken by the Chief, Office of International Affairs, pursuant to delegated authority, except that the Chief of the Office of International Affairs may dismiss any such application that does not contain any statement required under § 1.115(a) or (b) of this chapter, or does not comply with the filing requirements of § 1.115(d) or (f) of this chapter;

(4) To act upon any formal or informal radio application or section 214 application for common carrier services which is in hearing status;

(5) To designate for hearing any applications except applications for facilities where the issues presented relate solely to whether the applicant has complied with outstanding precedents and guidelines; or

(6) To impose, reduce, or cancel forfeitures pursuant to section 203 or section 503(b) of the Communications Act of 1934, as amended, in amounts of more than $80,000 for common carrier providers and $20,000 for non-common carrier providers.

30. Add § 0.352 to read as follows:

§ 0.352 Record of actions taken.

The application and authorization files and other appropriate files of the Office of International Affairs are designated as the Commission's official records of action of the Chief, Office of International Affairs, pursuant to authority delegated to the Chief. The official records of action are maintained in the Reference Information Center.

31. Amend § 0.391 by revising paragraph (a) to read as follows:

§ 0.391 Authority delegated.

* * * * *

(a) Manage the Commission's internal EEO compliance program pursuant to Title VII of the Civil Rights Act of 1964, as amended, the Rehabilitation Act of 1973, as amended, the Age Discrimination in Employment Act of 1967, as amended, the Equal Pay Act, and other applicable laws, rules, regulations, and Executive Orders, with authority that includes appointing EEO counselors, investigators, and mediators; investigating complaints of employment discrimination, and recommending to the Chairperson final agency decisions on EEO complaints;

* * * * *

32. Revise § 0.408 to read as follows:

§ 0.408 OMB Control Numbers and expiration dates assigned pursuant to the Paperwork Reduction Act of 1995.

OMB control numbers and expiration dates for the Commission information collection requirements assigned by the Office of Management and Budget (“OMB”) pursuant to the Paperwork Reduction Act of 1995, Public Law 104-13 can be found at https://www.reginfo.gov/public/do/PRAMain. The Commission intends that this posting comply with the requirement that agencies “display” current OMB control numbers and expiration dates assigned by the Director, OMB, for each approved information collection requirement. Notwithstanding any other provisions of law, no person shall be subject to any penalty for failing to comply with a collection of information subject to the Paperwork Reduction Act (PRA) that does not display a currently valid OMB control number. Questions concerning the OMB control numbers and expiration dates should be directed to the Secretary, Office of the Secretary, Office of Managing Director, Federal Communications Commission, Washington, DC 20554 by sending an email to PRA@fcc.gov.

33. Revise § 0.434 to read as follows:

§ 0.434 Data bases and lists of authorized broadcast stations and pending broadcast applications.

Periodically the FCC makes available copies of its data bases and lists containing information about authorized broadcast stations, pending applications for such stations, and rulemaking proceedings involving amendments to the TV and FM Table of Allotments. The data bases, and the lists prepared from the data bases, contain frequencies, station locations, and other particulars. The lists are available for public inspection at the FCC's main office, located at the address indicated in § 0.401(a). Many of the databases may be viewed at the Commission's website at www.fcc.gov and ftp.fcc.gov under mass media services. Copies of these lists are maintained by the Reference Information Center. These lists are derived from the data bases and can be used as an alternative research source to the Broadcast Application Processing System (BAPS).

34. Amend § 0.441 by revising paragraphs (a)(5) and (d) to read as follows:

§ 0.441 General.

(a) * * *

(5) Visiting the Reference Information Center located at the address indicated in § 0.401(a).

* * * * *

(d) The General Counsel shall, subject to the authority of the Chairperson, exercise the responsibilities of the Chief FOIA Officer specified in 5 U.S.C. 552(j).

35. Amend § 0.445 by revising the second sentence of paragraph (c) to read as follows:

§ 0.445 Publication, availability, and use of opinions, orders, policy statements, interpretations, administrative manuals, staff instructions, and frequently requested records.

* * * * *

(c) * * * The complete text of the Commission decision also is released by the Commission and is available for inspection through the Reference Information Center, via the Electronic Document Management System (EDOCS), or as otherwise specified in the rulemaking document published in the Federal Register.

* * * * *

36. Amend § 0.453 by revising the second sentence of the introductory text and the first sentence of paragraph (a) to read as follows:

§ 0.453 Public reference rooms.

* * * The Commission also maintains the FCC Reference Information Center at its offices in Washington, DC.

(a) The Reference Information Center provides access to files containing the record of all docketed cases, petitions for rulemaking and related papers. * * *

* * * * *

37. Amend § 0.457 by revising the first sentence of paragraph (d)(1)(v) to read as follows:

§ 0.457 Records not routinely available for public inspection.

* * * * *

(d) * * *

(1) * * *

(v) The rates, terms and conditions in any agreement between a U.S. carrier and a foreign carrier that govern the settlement of U.S.-international traffic, including the method for allocating return traffic, except as otherwise specified by the Commission by order or by the Office of International Affairs under delegated authority. * * *

* * * * *

38. Revise § 0.460 to read as follows:

§ 0.460 Requests for inspection of records which are routinely available for public inspection.

(a) Section 0.453 specifies those Commission records which are routinely available for public inspection and the places at which those records may be inspected. Subject to the limitations set out in this section, a person who wants to inspect such records must submit a request to the Reference Information Center. Many records also are available on the Commission's website, https://www.fcc.gov and the Commission's electronic reading room, https://www.fcc.gov/general/freedom-information-act-electronic-reading-room. Commission documents are generally published in the FCC Record, and many of these documents or summaries thereof are also published in the Federal Register.

(b) Arrangements to review records must be made in advance, by telephone or by correspondence, by contacting the Reference Information Center.

(c) The records in question must be reasonably described by the person requesting them to permit their location by staff personnel. The information needed to locate the records will vary, depending on the records requested. Advice concerning the kind of information needed to locate particular records will be furnished in advance upon request. Members of the public will not be given access to the area in which records are kept and will not be permitted to search the files.

(d) If it appears that there will be an appreciable delay in locating or producing the records (as where a large number of documents is the subject of a single request or where an extended search for a document appears to be necessary), the requester may be directed to submit or confirm the request in writing.

(e)(1) Written requests for records routinely available for public inspection under § 0.453 shall be directed to the Commission's Reference Information Center pursuant to the procedures set forth in § 0.465. Requests shall set out all information known to the person making the request which would be helpful in identifying and locating the document, including the date range of the records sought, if applicable. Upon request by Commission staff, the requester shall provide his or her street address, phone number (if any), and email address (if any). Written requests shall, in addition, specify the maximum search fee the person making the request is prepared to pay (see § 0.467).

(2) Written requests shall be delivered or mailed directly to the Commission's Reference Information Center (see § 0.465(a)).

(f) When a written request is received by the Reference Information Center, it will be date-stamped.

(g) All requests limited to records listed in § 0.453 will be granted, subject to paragraph (j) of this section.

(h) The records will be produced for inspection at the earliest possible time.

(i) If the requester is provided access to a physical copy, records shall be inspected within 7 days after notice is given that they have been located and are available for inspection. After that period, they will be returned to storage and additional charges may be imposed for again producing them.

(j) In addition to the other requirements of this section, the following provisions apply to the reports filed with the Commission pursuant to 5 CFR parts 2634 and 3902.

(1) Such reports shall not be obtained or used:

(i) For any unlawful purpose;

(ii) For any commercial purpose, other than by news and communications media for dissemination to the general public;

(iii) For determining or establishing the credit rating of any individual; or

(iv) For use, directly or indirectly, in the solicitation of money for any political, charitable, or other purpose.

(2) Such reports may not be made available to any person nor may any copy thereof be provided to any person except upon a written application by such person stating:

(i) That person's name, occupation and address;

(ii) The name and address of any other person or organization on whose behalf the inspection or copying is requested; and

(iii) That such person is aware of the prohibitions on the obtaining or use of the report. Further, any such application for inspection shall be made available to the public throughout the period during which the report itself is made available to the public.

39. Amend § 0.461 by revising paragraph (d)(1)(i) to read as follows:

§ 0.461 Requests for inspection of materials not routinely available for public inspection.

* * * * *

(d)(1) * * *

(i) Filed electronically through the internet at https://www.foiaonline.gov/foiaonline/action/public/home; or

* * * * *

40. Amend § 0.504 by revising the first sentence of paragraph (d) to read as follows:

§ 0.504 Processing requests for declassification.

* * * * *

(d) The Commission's Classification Review Committee, consisting of the Managing Director (Chairperson), the General Counsel or his/her designee, and the Chief, Internal Review and Security Division, shall have authority to act, within 30 days, upon all appeals regarding denials of requests for mandatory declassification of Commission-originated classifications. * * *

* * * * *

41. Amend § 0.557 by revising the third sentence of paragraph (b) to read as follows:

§ 0.557 Administrative review of an initial decision not to amend a record.

* * * * *

(b) * * * Final administrative review shall be completed not later than 30 days (excluding Saturdays, Sundays and legal public holidays) from the date on which the individual requests such review unless the Chairperson determines that a fair and equitable review cannot be made within the 30-day period. * * *

* * * * *

42. Revise § 0.558 to read as follows:

§ 0.558 Advice and assistance.

(a) Individuals who have questions regarding the procedures contained in this subpart for gaining access to a particular system of records or for contesting the contents of a record, either administratively or judicially, should contact the Privacy Analyst at Privacy@fcc.gov or at the address indicated in § 0.401(a), Attn: Office of General Counsel.

(b) Individuals who request clarification of the Notice described in § 0.552 or who have questions concerning the characterization of specific systems of records as set forth therein, should contact the Privacy Analyst at Privacy@fcc.gov or at the address indicated in § 0.401(a), Attn: Office of the Managing Director.

43. Amend § 0.701 by revising the third sentence of paragraph (a), the third sentence of paragraph (b), the second sentence of paragraph (c), the third sentence of paragraph (d) and the first sentence of paragraph (e) to read as follows:

§ 0.701 Intergovernmental Advisory Committee.

* * * * *

(a) * * * At his/her discretion, the Chairperson of the Federal Communications Commission may extend the IAC's term of operations for an additional two years, for which new members will be appointed as set forth in paragraph (b) of this section. * * *

(b) * * * The Chairperson of the Commission will appoint members through an application process initiated by a Public Notice, and will select a Chairperson and a Vice Chairperson to lead the IAC. The Chairperson of the Commission will also appoint members to fill any vacancies and may replace an IAC member, at his or her discretion, using the appointment process. * * *

(c) * * * Members must attend a minimum of fifty percent of the IAC's yearly meetings and may be removed by the Chairperson of the IAC for failure to comply with this requirement.

(d) * * * Members unable to attend an IAC meeting should notify the IAC Chairperson a reasonable time in advance of the meeting and provide the name of the employee designated on their behalf. * * *

(e) * * * The Chairperson of the Commission, or Commissioner designated by the Chairperson for such purpose, will serve as a liaison between the IAC and the Commission and provide general oversight for its activities. * * *

PART 1—PRACTICE AND PROCEDURE

44. The authority citation for part 1 continues to read as follows:

Authority: 47 U.S.C. chs. 2, 5, 9, 13; 28 U.S.C. 2461 note, unless otherwise noted.

45. Amend § 1.57 by revising paragraph (a) to read as follows:

§ 1.57 Circulation and voting of petitions for forbearance.

(a) If a petition for forbearance includes novel questions of fact, law or policy which cannot be resolved under outstanding precedents and decisions, the Chairperson will circulate a draft order no later than 28 days prior to the statutory deadline, unless all Commissioners agree to a shorter period.

* * * * *

46. Amend § 1.403 by revising the second sentence to read as follows:

§ 1.403 Notice and availability.

* * * Petitions for rulemaking are available through the Commission's Reference Information Center at the FCC's main office, and may also be available electronically at https://www.fcc.gov/.

47. Amend § 1.767 by:

a. Removing the note to paragraph (g)(5):

b. Adding paragraph (g)(5)(iii); and

c. Revising paragraph (n)(1).

The addition and revision read as follows:

§ 1.767 Cable landing licenses.

* * * * *

(g) * * *

(5) * * *

(iii) Licensees may rely on the Commission's list of foreign carriers that do not qualify for the presumption that they lack market power in particular foreign points for purposes of determining which foreign carriers are the subject of the requirements of this section. The Commission's list of foreign carriers that do not qualify for the presumption that they lack market power is available from the Office of International Affairs' website at: https://www.fcc.gov/international-affairs.

* * * * *

(n)(1) With the exception of submarine cable outage reports, and subject to the availability of electronic forms, all applications and notifications described in this section must be filed electronically through the International Communications Filing System (ICFS). A list of forms that are available for electronic filing can be found on the ICFS homepage. For information on electronic filing requirements, see subpart Y of this part, and the ICFS homepage at https://www.fcc.gov/icfs. See also §§ 63.20 and 63.53 of this chapter.

* * * * *

48. Amend § 1.768 by revising paragraph (j) to read as follows:

§ 1.768 Notification by and prior approval for submarine cable landing licensees that are or propose to become affiliated with a foreign carrier.

* * * * *

(j) Subject to the availability of electronic forms, all notifications described in this section must be filed electronically through the International Communications Filing System (ICFS). A list of forms that are available for electronic filing can be found on the ICFS homepage. For information on electronic filing requirements, see §§ 1.1000 through 1.10018 and the ICFS homepage at https://www.fcc.gov/icfs. See also §§ 63.20 and 63.53 of this chapter.

* * * * *

49. Revise § 1.1202 to read as follows:

§ 1.1202 Definitions.

For the purposes of this subpart, the following definitions apply:

(a) Presentation. A communication directed to the merits or outcome of a proceeding, including any attachments to a written communication or documents shown in connection with an oral presentation directed to the merits or outcome of a proceeding. Excluded from this term are communications which are inadvertently or casually made, inquiries concerning compliance with procedural requirements if the procedural matter is not an area of controversy in the proceeding, statements made by decisionmakers that are limited to providing publicly available information about pending proceedings, and inquiries relating solely to the status of a proceeding, including inquiries as to the approximate time that action in a proceeding may be taken. However, a status inquiry which states or implies a view as to the merits or outcome of the proceeding or a preference for a particular party, which states why timing is important to a particular party or indicates a view as to the date by which a proceeding should be resolved, or which otherwise is intended to address the merits or outcome or to influence the timing of a proceeding is a presentation. A communication expressing concern about administrative delay or expressing concern that a proceeding be resolved expeditiously will be treated as a permissible status inquiry so long as no reason is given as to why the proceeding should be expedited other than the need to resolve administrative delay, no view is expressed as to the merits or outcome of the proceeding, and no view is expressed as to a date by which the proceeding should be resolved. A presentation by a party in a restricted proceeding not designated for hearing requesting action by a particular date or giving reasons that a proceeding should be expedited other than the need to avoid administrative delay (and responsive presentations by other parties) may be made on an ex parte basis subject to the provisions of § 1.1204(a)(11).

(b) Ex parte presentation. Any presentation which:

(1) If written (including electronic submissions transmitted in the form of texts, such as for internet electronic mail), is not served on the parties to the proceeding; or

(2) If oral, is made without advance notice to the parties and without opportunity for them to be present.

(c) Decision-making personnel. Any member, officer, or employee of the Commission, or, in the case of a Joint Board, its members or their staffs, who is or may reasonably be expected to be involved in formulating a decision, rule, or order in a proceeding. Any person who has been made a party to a proceeding or who otherwise has been excluded from the decisional process shall not be treated as a decision-maker with respect to that proceeding. Thus, any person designated as part of a separate trial staff shall not be considered a decision-making person in the designated proceeding. Unseparated Bureau or Office staff shall be considered decision-making personnel with respect to decisions, rules, and orders in which their Bureau or Office participates in enacting, preparing, or reviewing. Commission staff serving as the case manager in a hearing proceeding in which the Commission is the presiding officer shall be considered decision-making personnel with respect to that hearing proceeding.

(d) Party. Unless otherwise ordered by the Commission, the following persons are parties:

(1)(i) In a proceeding not designated for hearing, any person who files an application, waiver request, petition, motion, request for a declaratory ruling, or other filing seeking affirmative relief (including a Freedom of Information Act request), and any person (other than an individual viewer or listener filing comments regarding a pending broadcast application or members of Congress or their staffs or branches of the Federal Government or their staffs) filing a written submission referencing and regarding such pending filing which is served on the filer, or, in the case of an application, any person filing a mutually exclusive application;

(ii) Persons who file mutually exclusive applications for services that the Commission has announced will be subject to competitive bidding or lotteries shall not be deemed parties with respect to each others' applications merely because their applications are mutually exclusive. Therefore, such applicants may make presentations to the Commission about their own applications provided that no one has become a party with respect to their application by other means, e.g., by filing a petition or other opposition against the applicant or an associated waiver request, if the petition or opposition has been served on the applicant.

(iii) Individual listeners or viewers submitting comments regarding a pending broadcast application pursuant to § 1.1204(a)(8) will not become parties simply by service of the comments. The Media Bureau may, in its discretion, make such a commenter a party, if doing so would be conducive to the Commission's consideration of the application or would otherwise be appropriate.

(2) Any person who files a complaint or request to revoke a license or other authorization or for an order to show cause which shows that the complainant has served it on the subject of the complaint or which is a formal complaint under 47 U.S.C. 208 and § 1.721 or 47 U.S.C. 255 and either § 6.21 or § 7.21 of this chapter, and the person who is the subject of such a complaint or request that shows service or is a formal complaint under 47 U.S.C. 208 and § 1.721 or 47 U.S.C. 255 and either § 6.21 or § 7.21 of this chapter;

(3) The subject of an order to show cause, hearing designation order, notice of apparent liability, or similar notice or order, or petition for such notice or order;

(4) In a proceeding designated for hearing, any person who has been given formal party status; and

(5) In an informal rulemaking proceeding conducted under section 553 of the Administrative Procedure Act (other than a proceeding for the allotment of a broadcast channel) or a proceeding before a Joint Board or before the Commission to consider the recommendation of a Joint Board, members of the general public after the issuance of a notice of proposed rulemaking or other order as provided under § 1.1206(a)(1) or (2).

(6) To be deemed a party, a person must make the relevant filing with the Secretary, the relevant Bureau or Office, or the Commission as a whole. Written submissions made only to the Chairperson or individual Commissioners will not confer party status.

(7) The fact that a person is deemed a party for purposes of this subpart does not constitute a determination that such person has satisfied any other legal or procedural requirements, such as the operative requirements for petitions to deny or requirements as to timeliness. Nor does it constitute a determination that such person has any other procedural rights, such as the right to intervene in hearing proceedings. The Commission or the staff may also determine in particular instances that persons who qualify as “parties” under this paragraph (d) should nevertheless not be deemed parties for purposes of this subpart.

(8) A member of Congress or his or her staff, or other agencies or branches of the federal government or their staffs will not become a party by service of a written submission regarding a pending proceeding that has not been designated for hearing unless the submission affirmatively seeks and warrants grant of party status.

(e) Matter designated for hearing. Any matter that has been designated for hearing before a presiding officer.

50. Amend § 1.1901 by revising paragraph (c) to read as follows:

§ 1.1901 Definitions and construction.

* * * * *

(c) The term agency head means the Chairperson of the Federal Communications Commission.

* * * * *

51. Amend § 1.4000 by revising paragraph (h) to read as follows:

§ 1.4000 Restrictions impairing reception of television broadcast signals, direct broadcast satellite services or multichannel multipoint distribution services.

* * * * *

(h) All allegations of fact contained in petitions and related pleadings before the Commission must be supported by affidavit of a person or persons with actual knowledge thereof. An original and two copies of all petitions and pleadings should be addressed to the Secretary at the FCC's main office, located at the address indicated in 47 CFR 0.401(a). Copies of the petitions and related pleadings will be available for public inspection through the Reference Information Center.

52. Amend § 1.5000 by revising the first two sentences of paragraph (b) to read as follows:

§ 1.5000 Citizenship and filing requirements under section 310(b) of the Communications Act of 1934, as amended.

* * * * *

(b) Except for petitions involving broadcast stations only, the petition for declaratory ruling required by paragraph (a) of this section shall be filed electronically through the International Communications Filing System (ICFS) or any successor system thereto. For information on filing a petition through ICFS, see subpart Y of this part and the ICFS homepage at https://www.fcc.gov/icfs. * * *

* * * * *

53. Amend § 1.5004 by revising the first and third sentences of paragraph (c)(2) introductory text and the first and third sentences of paragraph (d)(2) to read as follows:

§ 1.5004 Routine terms and conditions.

* * * * *

(c) * * *

(2) Where a previously unapproved foreign-organized entity is inserted into the vertical ownership chain of a licensee, or its controlling U.S.-organized parent, without prior Commission approval pursuant to paragraph (c)(1) of this section, the licensee shall file a letter to the attention of the Chief, Office of International Affairs, within 30 days after the insertion of the new, foreign-organized entity. * * * The letter must also reference the licensee's foreign ownership ruling(s) by ICFS File No. and FCC Record citation, if available. * * *

* * * * *

(d) * * *

(2) Where a previously unapproved foreign-organized entity is inserted into the vertical ownership chain of a licensee, or its controlling U.S.-organized parent, without prior Commission approval pursuant to paragraph (d)(1) of this section, the licensee shall file a letter to the attention of the Chief, Office of International Affairs, within 30 days after the insertion of the new, foreign-organized entity; or in the case of a broadcast licensee, the licensee shall file a letter to the attention of the Chief, Media Bureau, within 30 days after the insertion of the new, foreign-organized entity. * * * The letter must also reference the licensee's foreign ownership ruling(s) by ICFS File No. and FCC Record citation, if available; or, if a broadcast licensee, the letter must reference the licensee's foreign ownership ruling(s) by CDBS File No., Docket No., call sign(s), facility identification number(s), and FCC Record citation, if available. * * *

* * * * *

54. Amend § 1.7001 by revising paragraph (d)(4) introductory text to read as follows:

§ 1.7001 Scope and content of filed reports.

* * * * *

(d) * * *

(4) The Commission shall make all decisions regarding non-disclosure of provider-specific information, except that the Chiefs of the Office of International Affairs, Space Bureau, Wireless Telecommunications Bureau, Wireline Competition Bureau, or Office of Economics and Analytics may release provider-specific information to:

* * * * *

55. Revise § 1.7003 to read as follows:

§ 1.7003 Authority to update FCC Form 477.

The Office of International Affairs, Space Bureau, Wireless Telecommunications Bureau, Wireline Competition Bureau, and Office of Economics and Analytics may update the specific content of data to be submitted on FCC Form 477 as necessary to reflect changes over time in transmission technologies, spectrum usage, Geographical Information Systems (GIS) and other data storage and processing functionalities, and other related matters; and may implement any technical improvements or other clarifications to the filing mechanism and forms.

56. Revise § 1.7010 to read as follows:

§ 1.7010 Authority to update the Digital Opportunity Data Collection.

The Office of International Affairs, Space Bureau, Wireless Telecommunications Bureau, Wireline Competition Bureau, and Office of Economics and Analytics may update the specific format of data to be submitted pursuant to the Digital Opportunity Data Collection to reflect changes over time in Geographical Information Systems (GIS) and other data storage and processing functionalities and may implement any technical improvements or other clarifications to the filing mechanism and forms.

57. Revise the heading for subpart Y to read as follows:

Subpart Y—International Communications Filing System

* * * * *

58. Amend § 1.10000 by revising the section heading and paragraph (b) to read as follows:

§ 1.10000 What is the purpose of the requirements related to the International Communications Filing System?

* * * * *

(b) This subpart describes procedures for electronic filing of International and Satellite Services applications using the International Communications Filing System.

* * * * *

59. Revise § 1.10001 to read as follows:

§ 1.10001 Definitions.

All other applications. We consider all other applications officially filed once you file the application in the International Communications Filing System (ICFS) and applicable filing fees are received and approved by the FCC, unless the application is determined to be fee-exempt. We determine your official filing date based on one of the following situations:

(1)(i) You file your Satellite Space Station Application or your Application for Earth Stations to Access a Non-U.S. Satellite Not Currently Authorized to provide the Proposed Service in the Proposed Frequencies in the United States in ICFS.

(ii) Your official filing date is the date and time (to the millisecond) you file your application and receive a confirmation of filing and submission ID.

(2) You file all other applications in ICFS and then do one of the following:

(i)(A) Pay by online Automatic Clearing House (ACH) payment, online Visa, MasterCard, American Express, or Discover credit card payment, or wire transfer payment denominated in U.S. dollars and drawn on a United States financial institution and made payable to the Federal Communications Commission (through ICFS)

(B) Your official filing date is the date your online payment is approved. (Note: You will receive a remittance ID and an authorization number if your transaction is successful).

(ii)(A) Determine your application type is fee-exempt or your application qualifies for exemption to charges as provided in this part

(B) Your official filing date is the date you file in ICFS and receive a confirmation of filing and submission ID.

Application. A request for an earth or space station radio station license, an international cable landing license, or an international service authorization, or a request to amend a pending application or to modify or renew licenses or authorizations. The term also includes the other requests that may be filed in ICFS such as transfers of control and assignments of license applications, earth station registrations, and foreign carrier affiliation notifications.

Authorizations. Generally, a written document or oral statement issued by us giving authority to operate or provide service.

International Communications Filing System. The International Communications Filing System (ICFS) is a database, application filing system, and processing system for all International and Satellite services. ICFS supports electronic filing of many applications and related documents in the Space Bureau and Office of International Affairs, and provides public access to this information.

International services. All international services authorized under this part and parts 63 and 64 of this chapter.

Satellite services. All satellite services authorized under part 25 of this chapter.

Satellite Space Station Applications (other than DBS and DARS) and Applications for Earth Stations to Access a Non-U.S. Satellite Not Currently Authorized to Provide the Proposed Service in the Proposed Frequencies in the United States. We consider a Satellite Space Station application (other than DBS and DARS) and an Application for an Earth Station to Access a Non-U.S. Satellite Not Currently Authorized to Provide the Proposed Service in the Proposed Frequencies in the United States officially filed the moment you file them through ICFS. The system tracks the date and time of filing (to the millisecond). For purposes of the queue discussed in § 25.158 of this chapter, we will base the order of the applications in the queue on the date and time the applications are filed, rather than the “Official Filing Date” as defined here.

Submission ID. The Submission ID is the confirmation number you receive from ICFS once you have successfully filed your application. It is also the number we use to match your filing to your payment.

Us. In this subpart, “us” refers to the Commission.

We. In this subpart, “we” refers to the Commission.

You. In this subpart, “you” refers to applicants, licensees, your representatives, or other entities authorized to provide services.

60. Revise § 1.10005 to read as follows:

§ 1.10005 What is ICFS?

(a) The International Communications Filing System (ICFS) is a database, application filing system, and processing system for all International and Satellite Services. ICFS supports electronic filing of many applications and related documents in the Space Bureau and Office of International Affairs, and provides public access to this information.

(b) We maintain applications, notifications, correspondence, and other materials filed electronically with the Space Bureau and Office of International Affairs in IICFS.

61. Revise § 1.10006 to read as follows:

§ 1.10006 Is electronic filing mandatory?

Electronic filing is mandatory for all applications for international and satellite services for which an International Communications Filing System (ICFS) form is available. Applications for which an electronic form is not available must be filed through the Electronic Comment Filing System (ECFS) in PDF format until new forms are introduced. See §§ 63.20 and 63.53 of this chapter. As each new ICFS form becomes available for electronic filing, the Commission will issue a public notice announcing the availability of the new form and the effective date of mandatory filing for this particular type of filing. As each new form becomes effective, manual filings will not be accepted by the Commission and the filings will be returned to the applicant without processing. Mandatory electronic filing requirements for applications for international and satellite services are set forth in this part and parts 25, 63, and 64 of this chapter. A list of forms that are available for electronic filing can be found on the ICFS homepage. For information on electronic filing requirements, see §§ 1.1000 through 1.10018 and the ICFS homepage at https://licensing.fcc.gov/icfs.

62. Amend § 1.10007 by revising paragraph (a) to read as follows:

§ 1.10007 What applications can I file electronically?

(a) For a complete list of applications or notifications that must be filed electronically, log in to the ICFS website at http://licensing.fcc.gov/icfs.

* * * * *

63. Amend § 1.10008 by revising the section heading to read as follows:

§ 1.10008 What are ICFS file numbers?

* * * * *

64. Amend § 1.10009 by revising paragraphs (a)(2), (a)(3)(v), and (a)(4), the paragraph (b) heading, paragraphs (b)(1) and (2) and (4) and (5), (c) introductory text, (c)(2)(i), (d), (e)(1)(iii), (e)(2), (e)(3)(i), and (e)(4) and (5) to read as follows:

§ 1.10009 What are the steps for electronic filing?

* * * * *

(a) * * *

(2) In order to process your electronic application, you must have an FRN. You may obtain an FRN either directly from the Commission Registration System (CORES) at https://www.fcc.gov/licensing-databases/online-filing, or through ICFS as part of your filing process. If you need to know more about who needs an FRN, visit CORES at https://www.fcc.gov/licensing-databases/online-filing.

* * * * *

(3) * * *

(v) Payer, you are required to have and use an FRN when filing applications and/or paying fees through ICFS.

(4) We use your FRN to give you secured access to ICFS and to pre-fill the application you file.

(b) Step 2: Register with ICFS. (1) If you are already registered with ICFS, go to Step 3.

(2) In order to complete and file your electronic application, you must register in ICFS, located at https://www.fcc.gov/icfs.

* * * * *

(4) ICFS will issue you an account number as part of the registration process. You will create your own password.

(5) If you forget your password, send an email to the ICFS helpline at icfsinfo@fcc.gov or contact the helpline at (202) 418-2222 for assistance.

(c) Step 3: Log into ICFS, select the application you want to file, provide the required FRN(s) and password(s) and fill out your application. You must completely fill out forms and provide all requested information as provided in parts 1, 25, 63, and 64 of this chapter.

* * * * *

(2) * * *

(i) The referenced information is filed in ICFS.

* * * * *

(d) Step 4: File your application. If you file your application successfully through ICFS, a confirmation screen will appear showing you the date and time of your filing and your submission ID. Print this verification for your records as proof of online filing.

(e) * * *

(1) * * *

(iii) You can run a draft electronic submission of payment online form through ICFS, in association with a filed application, and the system will automatically enter your required fee on the form.

(2)(i) A complete FCC electronic submission of payment online form must accompany all fee payments. You must provide the FRN for both the applicant and the payer. You also must include your submission ID number on the electronic submission of payment online form in the box labeled “FCC Code 2.” In addition, for applications for transfer of control or assignment of license, call signs involved in the transaction must be entered into the “FCC Code 1” box on the FCC electronic submission of payment online form. (This may require the use of multiple rows on the electronic submission of payment online form for a single application where more than one call sign is involved.)

(ii) You can generate a pre-filled FCC electronic submission of payment online form from ICFS using your IB submission ID. For specific instructions on using ICFS to generate your FCC electronic submission of payment online form, go to the ICFS website (http://licensing.fcc.gov/icfs) and click on the “Getting Started” button.

(3) * * *

(i) Pay by credit card (through ICFS);

* * * * *

(4) You must electronically submit payment o within fourteen (14) calendar days of the date that you file your application in ICFS. If not, we will dismiss your application.

(5) For more information on fee payments, refer to Payment Instructions found on the ICFS internet site at http://licensing.fcc.gov/icfs, under the Using ICFS link.

65. Revise § 1.10010 to read as follows:

§ 1.10010 Do I need to send paper copies with my electronic applications?

When you file electronically through ICFS, the electronic record is the official record. You do not need to submit paper copies of your application.

66. Amend § 1.10011 by revising paragraph (a) to read as follows:

§ 1.10011 Who may sign applications?

(a) The Commission only accepts electronic applications. An electronic application is “signed” when there is an electronic signature. An electronic signature is the typed name of the person “signing” the application, which is then electronically transmitted via ICFS.

* * * * *

67. Revise § 1.10012 to read as follows:

§ 1.10012 When can I file on ICFS?

ICFS is available 24 hours a day, seven (7) days a week for filing.

68. Revise § 1.10013 to read as follows:

§ 1.10013 How do I check the status of my application after I file it?

You can check the status of your application through the “Search Tools” on the ICFS homepage. The ICFS homepage is located at https://www.fcc.gov/icfs.

69. Amend § 1.10014 by:

a. Revising paragraph (a), the second sentence of paragraph (e), the second sentence of paragraph (g), and the second sentence of paragraph (h) introductory text; and

b. In the table in paragraph (h):

i. Under the heading “International Telecommunications—Section 214”, revising entry 1; and

ii. Under the heading “Submarine Cable Landing License Application”, revising entry 1.

The revisions read as follows:

§ 1.10014 What happens after officially filing my application?

(a) We give you an ICFS file number.

* * * * *

(e) * * * Grants, denials and any other necessary actions are noted in the ICFS database. * * *

* * * * *

(g) * * * In all cases, the action dates are available online through the ICFS system.

(h) * * * Not all applications handled through ICFS and granted by the Commission result in the issuance of a paper license or authorization. * * *

Type of application | Type of license/authorization issued
* * * * * * *
International Telecommunications—Section 214:
1. Streamlined (New, Transfer of Control, Assignment) | 1. Action Taken Public Notice serves as the authorization document. This notice is issued weekly and is available online both at IBFS (http://www.fcc.gov/icfs) and the Electronic Document Management System (EDOCS) (http://www.fcc.gov/edocs).
* * * * * * *
Submarine Cable Landing License Application:
1. Streamlined (New, Transfer of Control, Assignment) | 1. Action Taken Public Notice serves as the authorization document. This notice is issued weekly and is available online both at IBFS, which can be found at http://www.fcc.gov/icfs, and the Electronic Document Management System (EDOCS), which can be found at http://www.fcc.gov/edocs.
* * * * * * *

70. Amend § 1.10016 by revising paragraph (a) to read as follows:

§ 1.10016 How do I apply for special temporary authority?

(a) Requests for Special Temporary Authority (STA) may be filed via ICFS for most services. We encourage you to file STA applications through ICFS as it will ensure faster receipt of your request.

* * * * *

71. Revise § 1.10017 to read as follows:

§ 1.10017 How can I submit additional information?

In response to an official request for information from the Space Bureau and Office of International Affairs, you can submit additional information electronically directly to the requestor, or by mail to the Office of the Secretary, Attention: Space Bureau, or Office of International Affairs, as appropriate.

72. Amend § 1.10018 by revising paragraph (b) to read as follows:

§ 1.10018 May I amend my application?

* * * * *

(b) If an electronic version of an amendment application is available in ICFS, you may file your amendment electronically through ICFS.

73. Amend appendix A to part 1:

a. Under the section entitled “procedure governing joint hearings,” by:

i. Designating the text of paragraph (d) as paragraph (d)(1) and the undesignated paragraph that follows as paragraph (d)(2); and

ii. Revising newly designated paragraph (d)(2) and the first sentence in paragraph (e);

b. Under the section entitled “tenure of cooperators”, by revising paragraph (d); and

c. By revising the last sentence in the section entitled “construction hereof in certain respects expressly provided”.

The revisions read as follows:

Appendix A to Part 1—A Plan of Cooperative Procedure in Matters and Cases Under the Provisions of Section 410 of the Communications Act of 1934.

* * * * *

Procedure Governing Joint Hearings

* * * * *

(d) * * *

(2) The president of the association shall have the authority to accept or to decline said invitation for the association, and to determine the number of commissioners who shall be named on the cooperating committee, provided that his action shall be concurred in by the chairperson of the association's executive committee. In the event of any failure of the president of the association and chairperson of its executive committee to agree, the second vice president of the association (or the chairperson of its committee on cooperation between State and Federal commissions, if there shall be no second vice president) shall be consulted, and the majority opinion of the three shall prevail. Consultations and expressions of opinion may be by mail or telegraph.

(e) If any proceeding, involving more than eight States, is pending before the Federal Commission, in which cooperation has not been invited by that Commission, which the association's president and the first and second vice presidents, or any two of them, consider should be made a cooperating proceeding, they may instruct the general solicitor to suggest to the Federal Commission that the proceeding be made a cooperative proceeding; and any State commission considering that said proceeding should be made cooperative may request the president of the association or the chairperson of its executive committee to make such suggestion after consideration with the executive officers above named. * * *

* * * * *

Tenure of Cooperators

* * * * *

(d) Should a vacancy occur upon any cooperating committee, in a proceeding involving more than eight States, by reason of the death of any cooperating commissioner, or of his ceasing to be a State commissioner, or of other inability to serve, it shall be the duty of the president of the association to fill the vacancy by appointment, if, after communication with the chairperson of the cooperating committee, it be deemed necessary to fill such vacancy.

* * * * *

Construction Hereof in Certain Respect Expressly Provided

* * * With respect to any such State or States, all negotiations herein specified to be carried on between the Federal Commission and any officer of such association shall be conducted by the Federal Commission directly with the chairperson of the commission of such State or States.

PART 19—EMPLOYEE RESPONSIBILITIES AND CONDUCT

74. The authority citation for part 19 continues to read as follows:

Authority: 5 U.S.C. 7301; 47 U.S.C. 154 (b), (i), (j), and 303(r), unless otherwise noted.

75. Amend § 19.735-104 by revising paragraphs (a), (b)(2)((i)(B), (b)(2)(ii), (c)(2)(i)(B), and (c)(2)(ii) to read as follows:

§ 19.735-104 Delegations.

(a) The Commission has delegated to the Chairperson responsibility for the detection and prevention of acts, short of criminal violations, which could bring discredit upon the Commission and the Federal service.

(b) * * *

(2)(i) * * *

(B) In the case of Heads of Offices and Bureaus, to the Chairperson; and

* * * * *

(ii) An official (other than the Chairperson or another Commissioner) to whom a request for approval under 18 U.S.C. 205(e) is submitted shall forward it to the Designated Agency Ethics Official with the official's recommendation as to whether the request should be granted.

* * * * *

(c) * * *

(2)(i) * * *

(B) In the case of Heads of Offices and Bureaus, to the Chairperson; and

* * * * *

(ii) An official (other than the Chairperson or another Commissioner) to whom a waiver request is submitted shall forward it to the Designated Agency Ethics Official with the official's recommendation as to whether the waiver should be granted.

* * * * *

76. Amend § 19.735-107 by revising paragraph (b), the fifth sentence of paragraph (c), the second sentence of paragraph (d) introductory text, paragraph (d)(3)(i), the first sentence of paragraph (d)(3)(iii), and paragraphs (d)(3)(iv) and (d)(3)(v)(A) introductory text to read as follows:

§ 19.735-107 Disciplinary and other remedial action.

* * * * *

(b) The Chairperson will designate an officer or employee of the Commission who will promptly investigate all incidents or situations in which it appears that employees may have engaged in improper conduct. Such investigation will be initiated in all cases where complaints are brought to the attention of the Chairperson, including: Adverse comment appearing in publications; complaints from members of Congress, private citizens, organizations, other government employees or agencies; and formal complaints referred to the Chairperson by the Designated Agency Ethics Official.

(c) * * * Should the Inspector General choose to conduct the investigation, he will promptly notify the Chairperson. * * *

(d) * * * When, after consideration of the employee's explanation, the Chairperson decides that remedial action is required, he or she shall take remedial action. * * *

(3) * * *

(i) When investigation reveals that the charges are groundless, the person designated by the Chairperson to assist in administration of the program may give a letter of clearance to the employee concerned, and the case will not be recorded in his or her Official Personnel Folder;

* * * * *

(iii) If the case administrator considers the problem to be of sufficient importance, he or she may call it to the attention of the Chairperson, who in turn may notify the employee of the seriousness of his or her act and warn him of the consequences of a repetition. * * *

(iv) The Chairperson may, when in his or her opinion circumstances warrant, establish a special review board to investigate the facts in a case and to make a full report thereon, including recommended action; or

(v)(A) If the Chairperson decides that formal disciplinary action should be taken, he or she may prepare for Commission consideration a statement of facts and recommend one of the following:

* * * * *

77. Amend § 19.735-203 by revising paragraphs (a) introductory text and (b) to read as follows:

§ 19.735-203 Nonpublic information.

(a) Except as authorized in writing by the Chairperson pursuant to paragraph (b) of this section, or otherwise as authorized by the Commission or its rules, nonpublic information shall not be disclosed, directly or indirectly, to any person outside the Commission. Such information includes, but is not limited to, the following:

* * * * *

(b) An employee engaged in outside teaching, lecturing, or writing shall not use nonpublic information obtained as a result of his or her government employment in connection with such teaching, lecturing, or writing except when the Chairperson gives written authorization for the use of that nonpublic information on the basis that its use is in the public interest.

* * * * *

PART 20—COMMERCIAL MOBILE SERVICES

78. The authority citation for part 20 continues to read as follows:

Authority: 47 U.S.C. 151, 152(a), 154(i), 155, 157, 160, 201, 214, 222, 251(e), 301, 302, 303, 303(b), 303(r), 307, 307(a), 309, 309(j)(3), 316, 316(a), 332, 610, 615, 615a, 615b, and 615c, unless otherwise noted.

79. Amend § 20.19 by revising paragraph (l) introductory text to read as follows:

§ 20.19 Hearing aid-compatible mobile handsets.

* * * * *

(l) Incorporation by reference. The standards required in this section are incorporated by reference into this section with the approval of the Director of the Federal Register under 5 U.S.C. 552(a) and 1 CFR part 51. All approved incorporation by reference (IBR) material is available for inspection at the Federal Communications Commission (FCC) and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following sources in this paragraph (l):

* * * * *

PART 25—SATELLITE COMMUNICATIONS

80. The authority citation for part 25 continues to read as follows:

Authority: 47 U.S.C. 154, 301, 302, 303, 307, 309, 310, 319, 332, 605, and 721, unless otherwise noted.

81. Amend § 25.108 by revising paragraph (a) and adding paragraphs (c)(10) and (d) to read as follows:

§ 25.108 Incorporation by reference.

(a) Certain material is incorporated by reference into this part with the approval of the Director of the Federal Register under 5 U.S.C. 552(a) and 1 CFR part 51. All approved incorporation by reference (IBR) material is available for inspection at the FCC and the National Archives and Records Administration (NARA). Contact FCC through the Federal Communications Commission's Reference Information Center, phone: (202) 418-0270. For information on the availability of this material at NARA, visit www.archives.gov/federal-register/cfr/ibr-locations.html or email fr.inspection@nara.gov or go to. The material may be obtained from the sources in the following paragraphs of this section.

* * * * *

(c) * * *

(10) Recommendation ITU-R M.1186 “Technical Considerations for the Coordination Between Mobile Satellite Service (MSS) Networks Utilizing Code Division Multiple Access (CDMA) and Other Spread Spectrum Techniques in the 1-3 GHz Band” (1995). Incorporation by reference approved for § 25.254(c).

(d) Radio Technical Commission for Maritime Services (RTCM). 1611 N. Kent St., Suite 605, Arlington, VA 22209; email: info@rtcm.org; website: www.rtcm.org.

(1) RTCM 12800.0, “Satellite Emergency Notification Devices (SENDs),” dated August 1, 2011. Incorporation by reference approved for § 25.301.

(2) [Reserved]

82. Amend § 25.110 by revising paragraphs (a) and (d) to read as follows:

§ 25.110 Filing of applications, fees, and number of copies.

(a) Filing. Applications may be filed by going online at https://www.fcc.gov/icfs and submitting the application through the International Communications Filing System (ICFS).

* * * * *

(d) Copies. Applications must be filed electronically though ICFS. The Commission will not accept any paper version of any application.

* * * * *

83. Amend § 25.111 by revising the second sentence of paragraph (d) to read as follows:

§ 25.111 Additional information, ITU filings, and ITU cost recovery.

* * * * *

(d) * * * Applicants and licensees must file the declaration electronically in the application file in the International Communications Filing System (ICFS). * * *

* * * * *

84. Amend § 25.113 by revising the fifth sentence of paragraph (b) to read as follows:

§ 25.113 Station construction, deployment approval, and operation of spare satellites.

* * * * *

(b) * * * This notification must be filed electronically in the appropriate file in the International Communications Filing System database. * * *

* * * * *

85. Amend § 25.115 by revising the last sentence of paragraph (b) introductory text to read as follows:

§ 25.115 Applications for earth station authorizations.

* * * * *

(b) * * * Such applications must be filed electronically through the International Communications Filing System (ICFS) in accordance with the applicable provisions of part 1, subpart Y, of this chapter.

* * * * *

86. Amend § 25.116 by revising the first sentence of paragraph (e) to read as follows:

§ 25.116 Amendments to applications.

* * * * *

(e) Any amendment to an application shall be filed electronically through the International Communications Filing System (ICFS) in accordance with the applicable provisions of part 1, subpart Y of this chapter. * * *

87. Amend § 25.117 by revising paragraph (b) to read as follows:

§ 25.117 Modification of station license.

* * * * *

(b) Both earth station and space station modification applications must be filed electronically through the International Communications Filing System (ICFS) in accordance with the applicable provisions of part 1, subpart Y, of this chapter.

* * * * *

88. Amend § 25.118 by revising the second sentence of paragraph (a) introductory text, the second sentence of paragraph (e) introductory text, and the first sentence of paragraph (f) introductory text to read as follows:

§ 25.118 Modifications not requiring prior authorization.

* * * * *

(a) * * * The notification must be filed electronically through the International Communications Filing System (ICFS) in accordance with the applicable provisions of part 1, subpart Y of this chapter.

* * * * *

(e) * * * The notification must be filed electronically on FCC Form 312 through the International Communications Filing System (ICFS) in accordance with the applicable provisions of part 1, subpart Y of this chapter:

* * * * *

(f) * * * A licensee may reposition NGSO space stations within an authorized orbital plane without prior Commission approval, provided the licensee notifies the Commission of the repositioning 10 days in advance by electronic filing on Form 312 in the International Communications Filing System. * * *

* * * * *

89. Amend § 25.119 by revising the second sentence of paragraph (c) and the second sentence of paragraph (d) to read as follows:

§ 25.119 Assignment or transfer of control of station authorization.

* * * * *

(c) * * * You must file these forms electronically through ICFS.

(d) * * * You must file these forms electronically through ICFS. * * *

* * * * *

90. Amend § 25.136 by revising the last sentence of paragraph (h) to read as follows:

§ 25.136 Earth Stations in the 24.75-25.25 GHz, 27.5-28.35 GHz, 37.5-40 GHz, 47.2-48.2, GHz and 50.4-51.4 GHz bands.

* * * * *

(h) * * * A re-coordination notice must be filed in ICFS before commencement of earth station operations.

91. Amend § 25.137 by revising the first sentence of paragraph (b) to read as follows:

§ 25.137 Requests for U.S. market access through non-U.S.-licensed space stations.

* * * * *

(b) Any request pursuant to paragraph (a) of this section must be filed electronically through the International Communications Filing System and must include an exhibit providing legal and technical information for the non-U.S.-licensed space station of the kind that § 25.114, § 25.122, or § 25.123 would require in a license application for that space station, including but not limited to, information required to complete Schedule S. * * *

* * * * *

92. Amend § 25.138 by revising paragraphs (b) and (c)(2) to read as follows:

§ 25.138 Earth Stations in the 3.7-4.2 GHz band.

* * * * *

(b) Applications for new earth station licenses or registrations within CONUS in the 4.0-4.2 GHz portion of the band will not be accepted until the transition is completed and upon announcement by the Space Bureau via Public Notice that applications may be filed.

(c) * * *

(2) Were licensed or registered (or had a pending application for license or registration) in the ICFS database on November 7, 2018; and

* * * * *

93. Amend § 25.154 by revising paragraphs (a)(3), (c), (d), and the second sentence of paragraph (e) to read as follows:

§ 25.154 Opposition to applications and other pleadings.

* * * * *

(a) * * *

(3) Filed in accordance with the pleading limitations, periods and other applicable provisions of §§ 1.41 through 1.52 of this chapter, except that such petitions must be filed electronically through the International Communications Filing System (ICFS) in accordance with the applicable provisions of part 1, subpart Y, of this chapter;

* * * * *

(c) Except for opposition to petitions to deny an application filed pursuant to § 25.220, oppositions to petitions to deny an application or responses to comments and informal objections regarding an application may be filed within 10 days after the petition, comment, or objection is filed and must be in accordance with other applicable provisions of §§ 1.41 through 1.52 of this chapter, except that such oppositions must be filed electronically through the International Communications Filing System (ICFS) in accordance with the applicable provisions of part 1, subpart Y, of this chapter.

(d) Reply comments by a party that filed a petition to deny may be filed in response to pleadings filed pursuant to paragraph (c) or (e) of this section within 5 days after expiration of the time for filing oppositions unless the Commission extends the filing deadline and must be in accordance with other applicable provisions of §§ 1.41 through 1.52 of this chapter, except that such reply comments must be filed electronically through the International Communications Filing System (ICFS) in accordance with the applicable provisions of part 1, subpart Y, of this chapter.

(e) * * * This statement and any conjoined opposition must be in accordance with the provisions of §§ 1.41 through 1.52 of this chapter applicable to oppositions to petitions to deny, except that such reply comments must be filed electronically through the International Communications Filing System (ICFS) in accordance with the applicable provisions of part 1, subpart Y, of this chapter.

94. Amend § 25.171 by revising paragraph (c) to read as follows:

§ 25.171 Space station point of contact reporting requirements.

* * * * *

(c) Electronic filing. Filings under paragraph (a) or (b) of this section must be made electronically in the Commission's International Communications Filing System (ICFS) in the “Other Filings” tab of the station's current authorization file.

95. Amend § 25.172 by revising the first sentence of paragraph (b) to read as follows:

§ 25.172 Requirements for reporting space station control arrangements.

* * * * *

(b) The information required by paragraph (a) of this section must be filed electronically in the Commission's International Communications Filing System (ICFS), in the “Other Filings” tab of the space station's current authorization file. * * *

96. Amend § 25.228 by revising the second sentence of paragraph (h)(5), the second through seventh sentences of paragraph (j)(1), the third and fourth sentences of paragraph (j)(3) introductory text, and the first four sentences of paragraph (j)(4) to read as follows:

§ 25.228 Operating and coordination requirements for earth stations in motion (ESIMs).

* * * * *

(h) * * *

(5) * * * The coordination method and the interference criteria objective will be determined by the frequency coordinator. The details of the coordination must be maintained and available at the frequency coordinator, and must be filed with the Commission electronically via the International Communications Filing System (http://licensing.fcc.gov/icfs/) to be placed on public notice. * * *

* * * * *

(j) * * *

(1) * * * Licensees must notify the Space Bureau once they have completed coordination. Upon receipt of such notification from a licensee, the Space Bureau will issue a public notice stating that the licensee may commence operations within the coordination zone in 30 days if no party has opposed the operations. When NTIA seeks to provide similar protection to future TDRSS sites that have been coordinated through the IRAC Frequency Assignment Subcommittee process, NTIA will notify the Commission's Space Bureau that the site is nearing operational status. Upon public notice from the Space Bureau, all Ku-band ESIM licensees must cease operations in the 14.0-14.2 GHz band within 125 km (for ESVs and VMESs) or within radio line of sight (for ESAAs) of the new TDRSS site until the licensees complete coordination with NTIA/IRAC for the new TDRSS facility. Licensees must notify the Space Bureau once they have completed coordination for the new TDRSS site. Upon receipt of such notification from a licensee, the Space Bureau will issue a public notice stating that the licensee may commence operations within the coordination zone in 30 days if no party has opposed the operations. * * *

* * * * *

(3) * * * Licensees must notify the Space Bureau once they have completed coordination. Upon receipt of the coordination agreement from a licensee, the Space Bureau will issue a public notice stating that the licensee may commence operations within the coordination zone in 30 days if no party has opposed the operations. * * *

(4) When NTIA seeks to provide similar protection to future RAS sites that have been coordinated through the IRAC Frequency Assignment Subcommittee process, NTIA will notify the Commission's Space Bureau that the site is nearing operational status. Upon public notice from the Space Bureau, all Ku-band ESIMs licensees must cease operations in the 14.47-14.5 GHz band within the relevant geographic zone (160 kms for single-dish radio observatories and Very Large Array antenna systems and 50 kms for Very Long Baseline Array antenna systems for ESVs and VMESs, radio line of sight for ESAAs) of the new RAS site until the licensees complete coordination for the new RAS facility. Licensees must notify the Space Bureau once they have completed coordination for the new RAS site and must submit the coordination agreement to the Commission. Upon receipt of such notification from a licensee, the Space Bureau will issue a public notice stating that the licensee may commence operations within the coordination zone in 30 days if no party opposed the operations. * * *

* * * * *

97. Amend § 25.254 by revising paragraph (c) to read as follows:

§ 25.254 Special requirements for ancillary terrestrial components operating in the 1610-1626.5 MHz/2483.5-2500 MHz bands.

* * * * *

(c) Applicants for an ancillary terrestrial component to be used in conjunction with a Mobile-Satellite Service system using CDMA technology shall coordinate the use of the 1.6/2.4 GHz Mobile-Satellite Service spectrum designated for CDMA systems using the framework established by the ITU in Recommendation ITU-R M.1186 (incorporated by reference, see § 25.108).

* * * * *

98. Amend § 25.263 by revising the fourth sentence of paragraph (e) to read as follows:

§ 25.263 Information sharing requirements for SDARS terrestrial repeater operators.

* * * * *

(e) * * * If the licensees are unable to do so, the Space Bureau, in consultation with the Office of Engineering and Technology and the Wireless Telecommunications Bureau, will consider the actions taken by the parties to mitigate the risk of and remedy any alleged interference. * * *

99. Amend § 25.271 by revising the second sentence of paragraph (f) to read as follows:

§ 25.271 Control of transmitting stations.

* * * * *

(f) * * * The updated information must be filed electronically in the “Other Filings” tab of the station's current authorization file in the International Communications Filing System.

* * * * *

100. Revise § 25.301 to read as follows:

§ 25.301 Satellite Emergency Notification Devices (SENDs).

No device described by the marketer or seller using the terms “SEND” or “Satellite Emergency Notification Device” may be marketed or sold in the United States unless it complies with the requirements of RTCM 12800.0 (incorporated by reference, see § 25.108).

PART 27—MISCELLANEOUS WIRELESS COMMUNICATIONS SERVICES

101. The authority citation for part 27 continues to read as follows:

Authority: 47 U.S.C. 154, 301, 302a, 303, 307, 309, 332, 336, 337, 1403, 1404, 1451, and 1452, unless otherwise noted.

102. Amend § 27.6 by revising paragraph (c)(3) introductory text to read as follows:

§ 27.6 Service areas.

* * * * *

(c) * * *

(3) Service areas for Block D in the 716-722 MHz band are based on Economic Area Groupings (EAGs) as defined by the Federal Communications Commission. See 62 FR 15978 (April 3, 1997) extended with the Gulf of Mexico. See also paragraphs (a)(1) and (2) of this section and 62 FR 9636 (March 3, 1997), in which the Commission created an additional four economic area-like areas for a total of 176. Maps of the EAGs and the Federal Register Notice that established the 172 Economic Areas (EAs) are available for public inspection through the Federal Communications Commission's Reference Information Center. These maps and data are also available on the FCC website at https://www.fcc.gov/oet/info/maps/areas/.

* * * * *

103. Amend § 27.72 by revising the fifth sentence of paragraph (e) to read as follows:

§ 27.72 Information sharing requirements.

* * * * *

(e) * * * If the licensees are unable to do so, the Wireless Telecommunications Bureau, in consultation with the Office of Engineering and Technology and the Space Bureau, will consider the actions taken by the parties to mitigate the risk of and remedy any alleged interference. * * *

104. Amend § 27.73 by revising the last four sentences of paragraph (a) to read as follows:

§ 27.73 WCS, AMT, and Goldstone coordination requirements.

* * * * *

(a) * * * ITU-R M.1459 is incorporated by reference into this section with the approval of the Director of the Federal Register under 5 U.S.C. 552(a) and 1 CFR part 51. This incorporation by reference (IBR) material is available for inspection at the FCC and at the National Archives and Records Administration (NARA). Contact the FCC through the Federal Communications Commission's Reference Information Center, phone: (202) 418-0270. For information on the availability of this material at NARA, visit www.archives.gov/federal-register/cfr/ibr-locations.html or email fr.inspection@nara.gov. The material may be obtained from ITU, Place des Nations, 1211 Geneva 20, Switzerland; website: www.itu.int/en/publications/Pages/default.aspx.

* * * * *

PART 43—REPORTS OF COMMUNICATION COMMON CARRIERS, PROVIDERS OF INTERNATIONAL SERVICES AND CERTAIN AFFILIATES

105. The authority citation for part 43 continues to read as follows:

Authority: 47 U.S.C. 35-39, 154, 211, 219, 220; sec. 402(b)(2)(B), (c), Pub. L. 104-104, 110 Stat. 129.

106. Amend § 43.82 by revising the first sentence of paragraph (c) to read as follows:

§ 43.82 Circuit capacity reports.

* * * * *

(c) * * * Authority is delegated to the Chief of the Office of International Affairs to prepare instructions and reporting requirements for the filing of these reports prepared and published as a Filing Manual. * * *

PART 52—NUMBERING

107. The authority citation for part 52 continues to read as follows:

Authority: 47 U.S.C. 151, 152, 153, 154, 155, 201-205, 207-209, 218, 225-227, 251-252, 271, 303, 332, unless otherwise noted.

108. Amend § 52.26 by:

a. In paragraph (a), removing the text “, which are incorporated by reference pursuant to 5 U.S.C. 552(a) and 1 CFR part 51”; and

b. Revising paragraph (c).

The revision reads as follows:

§ 52.26 NANC Recommendations on Local Number Portability Administration.

* * * * *

(c) The NANC Working Group Report is incorporated by reference into this section with the approval of the Director of the Federal Register in accordance with 5 U.S.C. 552(a) and 1 CFR part 51. This incorporation by reference (IBR) material is available for public inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material is available at https://docs.fcc.gov/public/attachments/DOC-341177A1.pdf.

PART 54—UNIVERSAL SERVICE

109. The authority citation for part 54 continues to read as follows:

Authority: 47 U.S.C. 151, 154(i), 155, 201, 205, 214, 219, 220, 229, 254, 303(r), 403, 1004, 1302, 1601-1609, and 1752, unless otherwise noted.

110. Amend § 54.704 by revising the second sentence of paragraph (b)(1) and revising paragraphs (b)(2) and (3) to read as follows:

§ 54.704 The Administrator's Chief Executive Officer.

* * * * *

(b) * * *

(1) * * * The Board of Directors shall submit the name of its nominee for Chief Executive Officer, along with relevant professional and biographical information about the nominee, to the Chairperson of the Federal Communications Commission.

(2) The Chairperson of the Federal Communications Commission shall review the nomination submitted by the Administrator's Board of Directors. Subject to the Chairperson's approval, the nominee shall be appointed as the Administrator's Chief Executive Officer.

(3) If the Board of Directors does not reach consensus on a nominee or fails to submit a nomination for the Chief Executive Officer, the Chairperson of the Federal Communications Commission shall select a Chief Executive Officer.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

111. The authority citation for part 63 continues to read as follows:

Authority: 47 U.S.C. 151, 154(i), 154(j), 160, 201-205, 214, 218, 403, 571, unless otherwise noted.

112. Amend § 63.10 by revising paragraph (d) and (e) to read as follows:

§ 63.10 Regulatory classification of U.S. international carriers.

* * * * *

(d) A carrier classified as dominant under this section shall file electronically each report required by paragraphs (c)(2) through (4) of this section in the International Communications Filing System (ICFS). Each report filed in ICFS shall clearly identify the report as responsive to paragraph of (c) of this section.

(e) Except as otherwise ordered by the Commission, a carrier that is classified as dominant under this section for the provision of facilities-based services on a particular route and that is affiliated with a carrier that collects settlement payments for terminating U.S. international switched traffic at the foreign end of that route may not provide switched facilities-based service on that route unless the current rates the affiliate charges U.S. international carriers to terminate traffic are at or below the Commission's relevant benchmark adopted in IB Docket No. 96-261. See FCC 97-280 (rel. Aug. 18, 1997) (available at the FCC's Reference Information Center located at the address indicated in § 0.401(a) and on the FCC's website at https://www.fcc.gov).

113. Amend § 63.11 by revising paragraph (j) to read as follows:

§ 63.11 Notification by and prior approval for U.S. international carriers that are or propose to become affiliated with a foreign carrier.

* * * * *

(j) Subject to the availability of electronic forms, notifications described in this section must be filed electronically through the International Communications Filing System (ICFS). A list of forms that are available for electronic filing can be found on the ICFS homepage. For information on electronic filing requirements, see §§ 1.10000 through 1.10018 of this chapter and the ICFS homepage at https://www.fcc.gov/icfs. See also §§ 63.20 and 63.53.

114. Amend § 63.14 by revising paragraph (a) to read as follows:

§ 63.14 Prohibition on agreeing to accept special concessions.

(a) Any carrier authorized to provide international communications service under this part shall be prohibited, except as provided in paragraph (c) of this section, from agreeing to accept special concessions directly or indirectly from any foreign carrier with respect to any U.S. international route where the foreign carrier possesses sufficient market power on the foreign end of the route to affect competition adversely in the U.S. market and from agreeing to accept special concessions in the future. Carriers may rely on the Commission's list of foreign carriers that do not qualify for the presumption that they lack market power in particular foreign points for purposes of determining which foreign carriers are the subject of the prohibitions contained in this section. The Commission's list of foreign carriers that do not qualify for the presumption that they lack market power is available from the Office of International Affairs' website at https://www.fcc.gov/international-affairs.

* * * * *

115. Amend § 63.17 by designating the note to paragraph (b) as note 1 and revising it to read as follows:

§ 63.17 Special provisions for U.S. international common carriers.

* * * * *

(b) * * *

Note 1 to paragraph (b): The Commission's list of international routes exempted from the international settlements policy is available on the Office of International Affairs website at https://www.fcc.gov/international-affairs.

* * * * *

116. Amend § 63.18 by revising paragraph (r) to read as follows:

§ 63.18 Contents of applications for international common carriers.

* * * * *

(r) Subject to the availability of electronic forms, all applications described in this section must be filed electronically through the International Communications Filing System (ICFS). A list of forms that are available for electronic filing can be found on the ICFS homepage. For information on electronic filing requirements, see §§ 1.1000 through 1.10018 of this chapter and the ICFS homepage at https://www.fcc.gov/icfs. See also §§ 63.20 and 63.53.

117. Amend § 63.19 by revising the second sentence of paragraph (a)(2) and revising paragraph (d) to read as follows:

§ 63.19 Special procedures for discontinuances of international services.

* * * * *

(a) * * *

(2) * * * The filing may be made by letter (sending an original and five copies to the Office of the Secretary, and a copy to the Chief, Office of International Affairs) and shall identify the geographic areas of the planned discontinuance, reduction or impairment and the authorization(s) pursuant to which the carrier provides service.

* * * * *

(d) Subject to the availability of electronic forms, all filings described in this section must be filed electronically through the International Communications Filing System (ICFS). A list of forms that are available for electronic filing can be found on the ICFS homepage. For information on electronic filing requirements, see §§ 1.1000 through 1.10018 of this chapter and the ICFS homepage at https://www.fcc.gov/icfs. See also §§ 63.20 and 63.53.

118. Amend § 63.20 by revising the first three sentences of paragraph (a) to read as follows:

§ 63.20 Electronic filing, copies required; fees; and filing periods for international service providers.

(a) Subject to the availability of electronic forms, all filings described in this section must be filed electronically through the International Communications Filing System (ICFS). A list of forms that are available for electronic filing can be found on the ICFS homepage. For information on electronic filing requirements, see §§ 1.1000 through 1.10018 of this chapter and the ICFS homepage at https://www.fcc.gov/icfs. * * *

* * * * *

119. Amend § 63.21 by revising paragraph (j) to read as follows:

§ 63.21 Conditions applicable to all international Section 214 authorizations.

* * * * *

(j) Subject to the availability of electronic forms, all notifications and other filings described in this section must be filed electronically through the International Communications Filing System (ICFS). A list of forms that are available for electronic filing can be found on the ICFS homepage. For information on electronic filing requirements, see §§ 1.1000 through 1.10018 of this chapter and the ICFS homepage at https://www.fcc.gov/icfs. See also §§ 63.20 and 63.53.

120. Amend § 63.22 by:

a. Revising the last sentence of paragraph (b);

b. Revising paragraph (g);

c. Revising the last sentence of paragraph (h);

d. Adding paragraph (j); and

e. Removing notes 1 and 2 to § 63.22.

The revisions and addition read as follows:

§ 63.22 Facilities-based international common carriers.

* * * * *

(b) * * * The exclusion list is available from the Office of International Affairs' website at https://www.fcc.gov/international-affairs.

* * * * *

(g) A carrier or other party may request Commission intervention on any U.S. international route for which competitive problems are alleged by filing with the Office of International Affairs a petition, pursuant to this section, demonstrating anticompetitive behavior by foreign carriers that is harmful to U.S. customers. The Commission may also act on its own motion. Carriers and other parties filing complaints must support their petitions with evidence, including an affidavit and relevant commercial agreements. The Office of International Affairs will review complaints on a case-by-case basis and take appropriate action on delegated authority pursuant to § 0.261 of this chapter. Interested parties will have 10 days from the date of issuance of a public notice of the petition to file comments or oppositions to such petitions and subsequently 7 days for replies. In the event significant, immediate harm to the public interest is likely to occur that cannot be addressed through post facto remedies, the Office of International Affairs may impose temporary requirements on carriers authorized pursuant to § 63.18 without prejudice to its findings on such petitions.

(h) * * * The list shall be filed electronically in accordance with instructions from the Office of International Affairs.

* * * * *

(j) For purposes of this section, foreign carrier is defined in § 63.09. For purposes of this section, a foreign carrier shall be considered to possess market power if it appears on the Commission's list of foreign carriers that do not qualify for the presumption that they lack market power in particular foreign points. This list is available on the Office of International Affairs' website at https://www.fcc.gov/international-affairs. The Commission will include on the list of foreign carriers that do not qualify for the presumption that they lack market power in particular foreign points any foreign carrier that has 50 percent or more market share in the international transport or local access markets of a foreign point. A party that seeks to remove such a carrier from the Commission's list bears the burden of submitting information to the Commission sufficient to demonstrate that the foreign carrier lacks 50 percent market share in the international transport and local access markets on the foreign end of the route or that it nevertheless lacks sufficient market power on the foreign end of the route to affect competition adversely in the U.S. market. A party that seeks to add a carrier to the Commission's list bears the burden of submitting information to the Commission sufficient to demonstrate that the foreign carrier has 50 percent or more market share in the international transport or local access markets on the foreign end of the route or that it nevertheless has sufficient market power to affect competition adversely in the U.S. market.

121. Amend § 63.23 by designating the note immediately following paragraph (d)(2) as note 2 to paragraph (d) and revising it to read as follows:

§ 63.23 Resale-based international common carriers.

* * * * *

(d) * * *

Note 2 to paragraph (d): The Commission's list of international routes exempted from the international settlements policy, and the Commission's list of foreign carriers that do not qualify for the presumption that they lack market power in particular foreign points are available on the Office of International Affairs' website at https://www.fcc.gov/international-affairs.

* * * * *

122. Amend § 63.24 by revising paragraph (h) to read as follows:

§ 63.24 Assignments and transfers of control.

* * * * *

(h) Electronic filing. Subject to the availability of electronic forms, all applications and notifications described in this section must be filed electronically through the International Communications Filing System (ICFS). A list of forms that are available for electronic filing can be found on the ICFS homepage. For information on electronic filing requirements, see §§ 1.10000 through 1.10018 of this chapter and the ICFS homepage at https://www.fcc.gov/icfs. See also §§ 63.20 and 63.53.

123. Amend § 63.25 by revising paragraph (e) to read as follows:

§ 63.25 Special provisions relating to temporary or emergency service by international carriers.

* * * * *

(e) Subject to the availability of electronic forms, all applications and notifications described in this section must be filed electronically through the International Communications Filing System (ICFS). A list of forms that are available for electronic filing can be found on the ICFS homepage. For information on electronic filing requirements, see §§ 1.1000 through 1.10018 of this chapter and the ICFS homepage at https://www.fcc.gov/icfs. See also §§ 63.20 and 63.53.

* * * * *

124. Amend § 63.51 by revising the second sentence of paragraph (c) to read as follows:

§ 63.51 Additional information.

* * * * *

(c) * * * For information on filing requirements, see §§ 1.1000 through 1.10018 of this chapter and the ICFS homepage at https://www.fcc.gov/icfs, and § 63.20.

125. Amend § 63.53 by revising the second, third, and fourth sentences of paragraph (a) to read as follows:

§ 63.53 Form.

(a) * * * Subject to the availability of electronic forms, all applications and other filings described in this section must be filed electronically through the International Communications Filing System (ICFS). A list of forms that are available for electronic filing can be found on the ICFS homepage. For information on electronic filing requirements, see §§ 1.10000 through 1.10018 of this chapter and the ICFS homepage at https://www.fcc.gov/icfs. * * *

* * * * *

126. Amend § 63.701 by revising paragraph (j) to read as follows:

§ 63.701 Contents of application.

* * * * *

(j) Subject to the availability of electronic forms, all filings described in this section must be filed electronically through the International Communications Filing System (ICFS). A list of forms that are available for electronic filing can be found on the ICFS homepage. For information on electronic filing requirements, see §§ 1.1000 through 1.10018 of this chapter and the ICFS homepage at https://www.fcc.gov/icfs. See also §§ 63.20 and 63.53.

PART 64—MISCELLANEOUS RULES RELATING TO COMMON CARRIERS

127. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Public Law 115-141, Div. P, sec. 503, 132 Stat. 348, 1091.

128. Amend § 64.604 by revising paragraph (c)(5)(iii)(C)(2)(ii) to read as follows.

§ 64.604 Mandatory minimum standards.

* * * * *

(c) * * *

(5) * * *

(iii) * * *

(C) * * *

(2) * * *

(ii) The names and business addresses of the provider's chief executive officer, chairperson, and president, or, in the event that a provider does not have such executives, three similarly senior-level officials of the provider;

* * * * *

129. Amend § 64.621 by revising paragraph (c) introductory text to read as follows:

§ 64.621 Interoperability and portability.

* * * * *

(c) Incorporation by reference. The material listed in this paragraph (c) is incorporated by reference into this section with the approval of the Director of the Federal Register under 5 U.S.C. 552(a) and 1 CFR part 51. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following sources in this paragraph (c):

* * * * *

130. Amend § 64.1195 by revising paragraph (b)(2) to read as follows:

§ 64.1195 Registration requirement.

* * * * *

(b) * * *

(2) The names and business addresses of the carrier's chief executive officer, chairperson, and president, or, in the event that a company does not have such executives, three similarly senior-level officials of the company;

* * * * *

PART 67—REAL-TIME TEXT

131. The authority citation for part 67 continues to read as follows:

Authority: 47 U.S.C. 151-154, 225, 251, 255, 301, 303, 307, 309, 316, 615c, 616, 617, unless otherwise noted.

132. Amend § 67.3 by revising paragraph (a) to read as follows:

§ 67.3 Incorporation by reference.

(a) Certain material is incorporated by reference into this part with the approval of the Director of the Federal Register under 5 U.S.C. 552(a) and 1 CFR part 51. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the source in the following paragraph of this section.

* * * * *

PART 68—CONNECTION OF TERMINAL EQUIPMENT TO THE TELEPHONE NETWORK

133. The authority citation for part 68 continues to read as follows:

Authority: 47 U.S.C. 154, 303, 610, unless otherwise noted.

134. Amend § 68.160 by revising paragraph (d)(1) to read as follows:

§ 68.160 Designation of Telecommunication Certification Bodies (TCBs).

* * * * *

(d) * * *

(1) The material listed in this paragraph (d) is incorporated by reference in this section with the approval of the Director of the Federal Register in accordance with 5 U.S.C. 552(a) and 1 CFR part 51. To enforce any edition other than that specified in this section, the FCC must publish a document in the Federal Register and the material must be available to the public. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the source in paragraph (d)(2) of this section.

* * * * *

135. Amend § 68.162 by revising paragraph (i) introductory text to read as follows:

§ 68.162 Requirements for Telecommunication Certification Bodies.

* * * * *

(i) Incorporation by reference. The material listed in this paragraph (i) is incorporated by reference in this section with the approval of the Director of the Federal Register in accordance with 5 U.S.C. 552(a) and 1 CFR part 51. To enforce any edition other than that specified in this section, the FCC must publish a document in the Federal Register and the material must be available to the public. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following source in this paragraph (i):

* * * * *

136. Amend § 68.317 by revising paragraph (i) introductory text to read as follows:

§ 68.317 Hearing aid compatibility volume control: technical standards.

* * * * *

(i) Incorporation by reference. The material listed in this paragraph (i) is incorporated by reference in this section with the approval of the Director of the Federal Register in accordance with 5 U.S.C. 552(a) and 1 CFR part 51. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following source in this paragraph (i):

* * * * *

PART 73—RADIO BROADCAST SERVICES

137. The authority citation for part 73 continues to read as follows:

Authority: 47 U.S.C. 154, 155, 301, 303, 307, 309, 310, 334, 336, 339.

138. Amend § 73.622 by revising the fifth sentence of paragraph (c)(1) to read as follows:

§ 73.622 Digital television table of allotments.

* * * * *

(c)(1) * * * Copies of the Memorandum Opinion and Order are available for public inspection through the Federal Communications Commission's Reference Information Center. This document is also available on the FCC homepage at https://www.fcc.gov. * * *

* * * * *

139. Amend § 73.683 by revising the last sentence of paragraph (d) to read as follows:

§ 73.683 Field strength contours and presumptive determination of field strength at individual locations.

* * * * *

(d) * * * OET Bulletin No. 72 and OET Bulletin No. 73 are available through the Federal Communications Commission's Reference Information Center, or at the FCC's Office of Engineering and Technology (OET) website: https://www.fcc.gov/oet/info/documents/bulletins/.

* * * * *

140. Amend § 73.702 by:

a. Revising the second sentence of paragraph (a), the second sentence of paragraph (b), and the first and third sentences of paragraph (c);

b. Revising paragraph (d); and

c. Removing the first sentence of paragraph (e) and the third sentence of paragraph (h)(2); and

d. Revising paragraphs (i) and (j) and the third sentence of paragraph (m) introductory text.

The revisions read as follows:

§ 73.702 Assignment and use of frequencies.

(a) * * * Six months prior to the start of each season, licensees and permittees shall by informal written request, submitted to the Commission electronically in the International Communications Filing System (ICFS), indicate for the season the frequency or frequencies desired for transmission to each zone or area of reception specified in the license or permit, the specific hours during which it desires to transmit to such zones or areas on each frequency, and the power, antenna gain, and antenna bearing it desires to use. * * *

(b) * * * After receipt of such notification, the licensee or permittee shall, in writing, not later than two months before the start of the season in question, electronically inform the Commission in ICFS either that it plans to operate in accordance with the authorization which the Commission intends to issue, or that it plans to operate in another manner. * * *

(c) If after submitting the request required under the provisions of paragraph (a) of this section, but before receipt of the Commission's notification referred to in paragraph (b) of this section, the licensee or permittee submits a request for changes of its original request electronically in ICFS such requests will be accepted for consideration only if accompanied by statements showing good cause therefor and will be honored only if conditions permit. * * * If after the licensee or permittee submits the information required under the provisions of paragraph (b) of this section, but before the start of the season in question, the licensee or permittee submits electronically in ICFS a request for changes in its manner of operation for the season in question, the request will be accepted for consideration only if accompanied by statements showing good cause therefor and will be honored only if conditions permit. * * *

(d) The provisions of paragraphs (a), (b), and (c) of the section shall apply to licensees, to permittees operating under program test authority, and to permittees who anticipate applying for and receiving program test authority for operation during the specified season. Permittees who during the process of construction wish to engage in equipment tests shall by informal written request, submitted to the Commission electronically in ICFS not less than 30 days before they desire to begin such testing, indicate the frequencies they desire to use for testing and the hours they desire to use those frequencies. No equipment testing shall occur until the Commission has authorized frequencies and hours for such testing. Such authorizations shall be only for one season, and if it is desired to continue equipment testing in a following season, new requests for frequencies and hours must be submitted at least 30 days before it is desired to begin testing in the following season.

(e) Within 14 days after the end of each season, a report shall be filed with the Commission electronically in ICFS by each licensee or permittee operating under program test authority who has been issued a seasonal schedule for that season. * * *

* * * * *

(h) * * *

(2) * * * Stations desiring to operate in this band must submit sufficient antenna performance information electronically in ICFS to ensure compliance with these restrictions. * * *

* * * * *

(i) Frequencies requested for assignment must be as near as practicable to the optimum working frequency (unless otherwise justified) for the zone or area of reception for the period and path of transmission, and should be chosen so that a given frequency will provide the largest period of reliable transmission to the selected zone or area of reception. Moreover, at the zone or area of reception frequencies shall provide protection to the transmissions of other broadcasting stations which, in the opinion of the Commission, have priority of assignment.

(1) Requests for frequency-hours shall be accompanied by all pertinent technical data with reference to the frequencies and hours of operation, including calculated field strengths delivered to the zones or areas of reception.

(2) It is preferable that calculated field strengths delivered to zones or areas of reception be equal to or greater than those required by I.F.R.B. Technical Standards, Series A (and supplements thereto), in order for the I.F.R.B. to afford the notified assignment protection from interference. Nevertheless, calculated field strengths less than those required by the I.F.R.B. standards for protection will be acceptable to the Commission. However, licensees should note that if such lesser field strengths are submitted no protection from interference will be provided by the I.F.R.B. if their technical examination of such notifications show incompatibilities with other notified assignments fully complying with I.F.R.B. technical standards.

(3) Licensees are permitted to engage in multiple operation as defined in § 73.701(d).

(4) Seasonal requests for frequency-hours will be only for transmissions to zones or areas of reception specified in the basic instrument of authorization. Changes in such zones or areas will be made only on separate application for modification of such instruments made electronically in ICFS.

(j) Not more than one frequency will be assigned for use at any one time for any one program transmission except in instances where a program is intended for reception in more than one zone or area of reception and the intended zones or areas cannot be served by a single frequency: Provided, however, That on a showing of good cause made electronically in ICFS a licensee may be authorized to operate on more than one frequency at any one time to transmit any one program to a single zone or area of reception.

* * * * *

(m) * * * If for a forthcoming season the total of the requests for daily frequency-hours of all licensees exceeds 100, all licensees will be notified and each licensee that makes an adequate showing electronically in ICFS that good cause exists for not having its requested number of frequency-hours reduced and that operation of its station without such reduction would be consistent with the public interest may be authorized the frequency-hours requested.

* * * * *

141. Amend § 73.713 by revising the second sentence of paragraph (a) to read as follows:

§ 73.713 Program tests.

* * * * *

(a) * * * Such request shall be electronically filed with the FCC in the International Communications Filing System (ICFS) at least 10 days prior to the date on which it is desired to begin such operation. * * *

* * * * *

142. Revise § 73.732 to read as follows:

§ 73.732 Authorizations.

Authorizations issued to international broadcasting stations by the Commission will be authorizations to permit the construction or use of a particular transmitting equipment combination and related antenna systems for international broadcasting, and to permit broadcasting to zones or areas of reception specified on the instrument of authorization. The authorizations will not specify the frequencies to be used or the hours of use. Requests for frequencies and hours of use will be made by electronic filing in the International Communications Filing System (ICFS) as provided in § 73.702. Seasonal schedules, when issued pursuant to the provisions of § 73.702, will become attachments to and part of the instrument of authorization, replacing any such prior attachments.

143. Amend § 73.759 by revising the last sentence of paragraph (c)(2) to read as follows:

§ 73.759 Auxiliary transmitters.

* * * * *

(c) * * *

(2) * * * Where such operation is required for periods in excess of 5 days, request therefor shall be made electronically in the International Communications Filing System (ICFS) in accordance with § 73.3542).

* * * * *

144. Amend § 73.761 by revising the introductory text and paragraph (g) to read as follows:

§ 73.761 Modification of transmission systems.

Specific authority, upon electronic filing of a formal application (FCC Form 309) therefor in the International Communications Filing System (ICFS), is required for any of the following changes:

* * * * *

(g) Other changes, not specified above in this section, may be made at any time without the authority of the Commission: Provided, That the Commission shall be immediately notified electronically in ICFS thereof and such changes shall be shown in the next application for renewal of license.

145. Amend § 73.762 by revising the second sentence of paragraph (b) and the first two sentences of paragraph (c) to read as follows:

§ 73.762 Time of operation.

* * * * *

(b) * * * However, in such cases, the FCC shall be immediately notified by electronic filing in the International Communications Filing System (ICFS) of such limitation or discontinuance of operation and shall subsequently be notified by electronic filing in ICFS when the station resumes regular operation.

(c) In the event that causes beyond a licensee's control make it impossible to adhere to the seasonal schedule or to continue operating for a temporary period of more than 10 days, the station may not limit or discontinue operation until it requests and receives specific authority to do so from the FCC by electronic filing in ICFS. When the station subsequently resumes regular operation after such limited operation or discontinuance of operation, it shall notify the FCC in Washington, DC by electronic filing in ICFS. * * *

146. Amend § 73.1212 by revising the second and fifth sentences of paragraph (k) to read as follows:

§ 73.1212 Sponsorship identification; list retention; related requirements.

* * * * *

(k) * * * A section 325(c) permit holder shall place copies of the disclosures required along with the name of the program to which the disclosures were appended in the International Communications public filing System (ICFS) under the relevant ICFS section 325(c) permit file. * * * Where an aural announcement was made, its contents must be reduced to writing and placed in the ICFS in the same manner.

147. Amend § 73.1650 by designating the undesignated paragraph following paragraph (b)(6) as paragraph (b)(7) and revising it to read as follows:

§ 73.1650 International agreements.

* * * * *

(b) * * *

(7) The documents listed in this paragraph (b) are available for inspection in the office of the Chief, Office of International Affairs, FCC, Washington, DC.

148. Amend § 73.3533 by revising the second sentence of paragraph (a)(2) to read as follows:

§ 73.3533 Application for construction permit or modification of construction permit.

* * * * *

(a) * * *

(2) * * * For International Broadcast Stations, applications shall be filed electronically in the International Communications Filing System (ICFS).

* * * * *

149. Amend § 73.3539 by revising the last sentence of paragraph (a) to read as follows:

§ 73.3539 Application for renewal of license.

(a) * * * For International Broadcast Stations, applications shall be filed electronically in the International Communications Filing System (ICFS).

* * * * *

150. Amend § 73.3540 by revising the second sentence of paragraph (c) and the second sentence of paragraph (d) to read as follows:

§ 73.3540 Application for voluntary assignment or transfer of control.

* * * * *

(c) * * * For International Broadcast Stations, the application shall be filed electronically in the International Communications Filing System (ICFS).

(d) * * * For International Broadcast Stations, applications shall be filed electronically in ICFS.

* * * * *

151. Amend § 73.3545 by revising the last sentence to read as follows:

§ 73.3545 Application for permit to deliver programs to foreign stations.

* * * All applications must be filed electronically in the International Communications Filing System (ICFS).

152. Amend § 73.3580 by revising paragraph (b)(2)(i) to read as follows:

§ 73.3580 Local public notice of filing of broadcast applications.

* * * * *

(b) * * *

(2) * * *

(i) Content. The online notice shall be in the following form:

On [DATE], [APPLICANT NAME], [PERMITTEE/LICENSEE] of [STATION CALL SIGN], [STATION FREQUENCY], [STATION COMMUNITY OF LICENSE OR, FOR INTERNATIONAL BROADCAST STATIONS, COMMUNITY WHERE THE STATION'S TRANSMISSION FACILITIES ARE LOCATED], filed an application with the Federal Communications Commission for [TYPE OF APPLICATION]. Members of the public wishing to view this application or obtain information about how to file comments and petitions on the application can visit [INSERT HYPERLINK TO APPLICATION LINK IN APPLICANT'S ONLINE PUBLIC INSPECTION FILE (OPIF) OR, IF THE STATION HAS NO OPIF, TO APPLICATION LOCATION IN THE MEDIA BUREAU'S LICENSING AND MANAGEMENT SYSTEM; IF AN INTERNATIONAL BROADCAST STATION, TO APPLICATION LOCATION IN THE OFFICE OF INTERNATIONAL AFFAIRS' ICFS DATABASE].

An applicant for a proposed but not authorized station shall post the following online notice:

On [DATE], [APPLICANT NAME], applicant for [A NEW (STATION TYPE) STATION ON] [STATION FREQUENCY], [STATION COMMUNITY OF LICENSE OR, FOR INTERNATIONAL BROADCAST STATIONS, COMMUNITY WHERE THE STATION'S TRANSMISSION FACILITIES ARE TO BE LOCATED], filed an application with the Federal Communications Commission for [TYPE OF APPLICATION]. Members of the public wishing to view this application or obtain information about how to file comments and petitions on the application can visit [INSERT HYPERLINK TO APPLICATION LOCATION IN THE MEDIA BUREAU'S LICENSING AND MANAGEMENT SYSTEM; IF AN INTERNATIONAL BROADCAST STATION, TO APPLICATION LOCATION IN THE OFFICE OF INTERNATIONAL AFFAIRS' ICFS DATABASE].

An applicant for an authorization under section 325(c) of the Communications Act (Studio Delivering Programs to a Foreign Station) shall post the following online notice:

On [DATE], [APPLICANT NAME] filed an application with the Federal Communications Commission for a permit to deliver programs to foreign station [FOREIGN STATION CALL SIGN], [FOREIGN STATION FREQUENCY], [FOREIGN STATION COMMUNITY OF LICENSE]. [DESCRIPTION OF THE PROGRAMS TO BE TRANSMITTED OVER THE STATION]. Members of the public wishing to view this application or obtain information about how to file comments and petitions on the application can visit [INSERT HYPERLINK TO APPLICATION LOCATION IN THE OFFICE OF INTERNATIONAL AFFAIRS' ICFS DATABASE].

* * * * *

PART 74—EXPERIMENTAL RADIO, AUXILIARY, SPECIAL BROADCAST AND OTHER PROGRAM DISTRIBUTIONAL SERVICES

153. The authority citation for part 74 continues to read as follows:

Authority: 47 U.S.C. 154, 302a, 303, 307, 309, 310, 325, 336 and 554, unless otherwise noted.

154. Amend § 74.703 by revising the fourth and fifth sentences of paragraph (a) to read as follows:

§ 74.703 Interference.

(a) * * * Copies of OET Bulletin No. 69 are available for inspection through the Federal Communications Commission's Reference Information Center. This document is also available on the FCC homepage at https://www.fcc.gov/oet/info/documents/bulletins/#69.

* * * * *

155. Amend § 74.861 by revising paragraph (i) introductory text to read as follows:

§ 74.861 Technical requirements.

* * * * *

(i) Incorporation by reference. The material listed in this paragraph (i) is incorporated by reference in this section with the approval of the Director of the Federal Register in accordance with 5 U.S.C. 552(a) and 1 CFR part 51. To enforce any edition other than that specified in this section, the FCC must publish a document in the Federal Register and the material must be available to the public. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following source in this paragraph (i):

* * * * *

PART 76—MULTICHANNEL VIDEO AND CABLE TELEVISION SERVICE

156. The authority citation for part 76 continues to read as follows:

Authority: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573, unless otherwise noted.

157. Amend § 76.602 by revising paragraph (a) to read as follows:

§ 76.602 Incorporation by reference.

(a) Certain material is incorporated by reference into this part with the approval of the Director of the Federal Register under 5 U.S.C. 552(a) and 1 CFR part 51. To enforce any edition other than that specified in this section, the FCC must publish a document in the Federal Register and the material must be available to the public. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the sources in the following paragraphs of this section.

* * * * *

PART 79—ACCESSIBILITY OF VIDEO PROGRAMMING

158. The authority citation for part 79 continues to read as follows:

Authority: 47 U.S.C. 151, 152(a), 154(i), 303, 307, 309, 310, 330, 544a, 613, 617, unless otherwise noted.

159. Amend § 79.100 by revising paragraph (a) to read as follows:

§ 79.100 Incorporation by reference.

(a) Certain material is incorporated by reference into this part with the approval of the Director of the Federal Register under 5 U.S.C. 552(a) and 1 CFR part 51. To enforce any edition other than that specified in this section, the FCC must publish a document in the Federal Register and the material must be available to the public. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the sources in the following paragraphs of this section.

* * * * *

PART 80—STATIONS IN THE MARITIME SERVICES

160. The authority citation for part 80 continues to read as follows:

Authority: 47 U.S.C. 151-155, 301-609; 3 U.S.T. 3450, 3 U.S.T. 4726, 12 U.S.T. 2377, unless otherwise noted.

161. Amend § 80.7 by revising paragraph (a) to read as follows:

§ 80.7 Incorporation by reference.

(a) Certain material is incorporated by reference into this part with the approval of the Director of the Federal Register under 5 U.S.C. 552(a) and 1 CFR part 51. To enforce any edition other than that specified in this section, the FCC must publish a document in the Federal Register and the material must be available to the public. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the sources in the following paragraphs of this section.

* * * * *

162. Amend § 80.371 by revising the fifth sentence of paragraph (c)(1)(ii) introductory text to read as follows:

§ 80.371 Public correspondence frequencies.

* * * * *

(c) * * *

(1) * * *

(ii) * * * Maps of the EAs and VPCSAs are available for public inspection through the Federal Communications Commission's Reference Information Center, Tel: 1-888-225-5322. * * *

* * * * *

163. Amend § 80.385 by revising the sixth sentence of paragraph (a)(3) introductory text to read as follows:

§ 80.385 Frequencies for automated systems.

* * * * *

(a) * * *

(3) * * * Maps of the EAs and AMTSAs are available for public inspection through the Federal Communications Commission's Reference Information Center. These maps and data are also available on the FCC website at www.fcc.gov/oet/info/maps/areas/. * * *

* * * * *

PART 87—AVIATION SERVICES

164. The authority citation for part 87 continues to read as follows:

Authority: 47 U.S.C. 154, 303 and 307(e), unless otherwise noted.

165. Amend § 87.199 by revising paragraph (a) to read as follows:

§ 87.199 Special requirements for 406.0-406.1 MHz ELTs.

(a) 406.0-406.1 MHz ELTs use G1D emission. Except for the spurious emission limits specified in § 87.139(h), 406.0-406.1 MHz ELTs must meet all the technical and performance standards contained in the Radio Technical Commission for Aeronautics document titled “Minimum Operational Performance Standards 406 MHz Emergency Locator Transmitters (ELT)” Document No. RTCA/DO-204 dated September 29, 1989. Document No. RTCA/DO-204 is incorporated by reference into this the section with the approval of the Director of the Federal Register in accordance with 5 U.S.C 552(a) and 1 CFR part 51. This incorporation by reference (IBR) material is available for inspection at the FCC and at the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the Radio Technical Commission for Aeronautics (RTCA), Inc., 1150 18th Street NW, Suite 910, Washington, DC 20036; phone: (202) 833-9339; email: info@rtca.org; website: www.rtca.org.

* * * * *

166. Revise § 87.285 to read as follows:

§ 87.285 Scope of service.

(a) Frequencies. The frequencies indicated in § 87.287 may be used to test aircraft data link systems on a secondary basis to other licensed stations. Equipment must be designed so that it will engage in data link exchange only with the aircraft whose identification has been programmed into the device, and must comply with the applicable specifications for VDL Mode 2 operation set forth in the ICAO “Manual on VHF Digital Link (VDL) Mode 2” and RTCA DO-281A.

(b) Incorporation by reference. The material listed in this paragraph (b) is incorporated by reference into this section with the approval of the Director of the Federal Register under 5 U.S.C. 552(a) and 1 CFR part 51. This incorporation by reference (IBR) material is available for inspection at the FCC and at the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following sources in this paragraph (b):

(1) ICAO, Customer Services Unit, 999 University Street, Montréal, Quebec H3C 5H7, Canada; email: icaohq@icao.int; website: www.ICAO.int.

(i) ICAO “Manual on VHF Digital Link (VDL) Mode 2” First Edition-2001.

(ii) [Reserved]

(2) Radio Technical Commission for Aeronautics (RTCA), Inc., 1150 18th Street NW, Suite 910, Washington, DC 20036; phone: (202) 833-9339; email: info@rtca.org; website: www.rtca.org.

(i) RTCA DO-281A, “Minimum Operational Performance Standards for Aircraft VDL Mode 2 Physical, Link and Network Layer”, November 8, 2005.

(ii) [Reserved]

PART 90—PRIVATE LAND MOBILE RADIO SERVICES

167. The authority citation for part 90 continues to read as follows:

Authority: 47 U.S.C. 154(i), 161, 303(g), 303(r), 332(c)(7), 1401-1473.

* * * * *

168. Amend § 90.7 by revising paragraph (2) of the definition of “900 MHz SMR MTA-based license or MTA license” and revising the definitions of “EA-based or EA license” and “MTA-based license or MTA license” to read as follows:

§ 90.7 Definitions.

* * * * *

900 MHz SMR MTA-based license or MTA license * * *

(2) The MTA map is available for public inspection through the Federal Communications Commission's Reference Information Center.

* * * * *

EA-based or EA license. A license authorizing the right to use a specified block of SMR or LMS spectrum within one of the 175 Economic Areas (EAs) as defined by the Department of Commerce Bureau of Economic Analysis. The EA Listings and the EA Map are available for public inspection through the Federal Communications Commission's Reference Information Center.

* * * * *

MTA-based license or MTA license. A license authorizing the right to use a specified block of SMR spectrum within one of the 51 Major Trading Areas (“MTAs”), as embodied in Rand McNally's Trading Area System MTA Diskette and geographically represented in the map contained in Rand McNally's Commercial Atlas & Marketing Guide (the “MTA Map”). The MTA Listings, the MTA Map and the Rand McNally/AMTA license agreement are available for public inspection through the Reference Information Center.

* * * * *

169. Amend § 90.20 by revising the fifth sentence of paragraph (g)(1) to read as follows:

§ 90.20 Public Safety Pool.

* * * * *

(g) * * *

(1) * * * Maps of the EAs and VPCSAs are available for inspection through the Federal Communications Commission's Reference Information Center. These maps and data are also available on the FCC website at https://www.fcc.gov/oet/info/maps/areas/. * * *

* * * * *

170. Amend § 90.265 by revising paragraph (f) introductory text to read as follows:

§ 90.265 Assignment and use of frequencies in the bands allocated for Federal use.

* * * * *

(f) Incorporation by reference. The material listed in this paragraph (f) is incorporated by reference in this section with the approval of the Director of the Federal Register in accordance with 5 U.S.C. 552(a) and 1 CFR part 51. To enforce any edition other than that specified in this section, the FCC must publish a document in the Federal Register and the material must be available to the public. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following source in this paragraph (f):

* * * * *

171. Amend § 90.548 by revising paragraph (b) introductory text to read as follows:

§ 90.548 Interoperability Technical Standards.

* * * * *

(b) Incorporation by reference. The material listed in this paragraph (b) is incorporated by reference in this section with the approval of the Director of the Federal Register in accordance with 5 U.S.C. 552(a) and 1 CFR part 51. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following source in this paragraph (b):

* * * * *

172. Amend § 90.553 by revising paragraphs (b) and (c) to read as follows:

§ 90.553 Encryption.

* * * * *

(b) If encryption is employed, then transmitters manufactured after August 11, 2014 must use the Advanced Encryption Standard (AES) specified in ANSI/TIA-102.AAAD-A. Until 2030, manufacturers may also include the Digital Encryption Standard (DES) or Triple Data Encryption Algorithm (TDEA), in addition to but not in place of AES, for compatibility with legacy radios that lack AES capability.

(c) ANSI/TIA-102.AAAD-A: Project 25 Digital Land Mobile Radio-Block Encryption Protocol, approved August 20, 2009 is incorporated by reference into this section with the approval of the Director of the Federal Register in accordance with 5 U.S.C. 552(a) and 1 CFR part 51. This incorporation by reference (IBR) material is available for inspection at the FCC and at the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following sources:

(1) Telecommunications Industry Association (TIA), 2500 Wilson Boulevard, Arlington, VA 22201; website: https://tiaonline.org.

(2) S&P Global Standards Store, 15 Inverness Way East, Englewood, CO 80112; website: https://global.ihs.com.

(3) American National Standards Institute (ANSI), 25 West 43rd Street, Fourth Floor, New York, NY 10036; website: www.ansi.org.

PART 95—PERSONAL RADIO SERVICES

173. The authority citation for part 95 continues to read as follows:

Authority: 47 U.S.C. 154, 303, 307, unless otherwise noted.

174. Amend § 95.2989 by revising paragraph (b) introductory text to read as follows:

§ 95.2989 PLB and MSLD technical standards.

* * * * *

(b) Incorporation by reference. The material listed in this paragraph (b) is incorporated by reference in this section with the approval of the Director of the Federal Register in accordance with 5 U.S.C. 552(a) and 1 CFR part 51. All approved incorporation by reference (IBR) material is available for inspection at the FCC and the National Archives and Records Administration (NARA). Contact the FCC through the Federal Communications Commission's Reference Information Center, phone: (202) 418-0270. For information on the availability of this material at NARA, visit www.archives.gov/federal-register/cfr/ibr-locations.html or email fr.inspection@nara.gov. The material may be obtained from the following source in this paragraph (b):

* * * * *

PART 97—AMATEUR RADIO SERVICE

175. The authority citation for part 97 continues to read as follows:

Authority: 47 U.S.C. 151-155, 301-609, unless otherwise noted.

176. Amend § 97.207 by revising paragraphs (g) introductory text and (g)(1)(viii) to read as follows:

§ 97.207 Space station.

* * * * *

(g) The license grantee of each space station must make the following written notifications to the Space Bureau, FCC, Washington, DC 20554.

(1) * * *

(viii) If any material item described in this notification changes before launch, a replacement pre-space notification shall be filed with the Space Bureau no later than 90 days before integration of the space station into the launch vehicle.

* * * * *

PART 101—FIXED MICROWAVE SERVICES

177. The authority citation for part 101 continues to read as follows:

Authority: 47 U.S.C. 154, 303.

178. Amend § 101.21 by revising the last sentence of paragraph (f) to read as follows:

§ 101.21 Technical content of applications.

* * * * *

(f) * * * (Technical characteristics of the Earth stations on file and coordination contour maps for those Earth stations will be kept on file for public inspection in the offices of the Commission's Space Bureau in Washington, DC.)

* * * * *

179. Amend § 101.523 by revising the third sentence of paragraph (a)(4) to read as follows:

§ 101.523 Service areas.

* * * * *

(a) * * *

(4) * * * Maps of the EAs and the Federal Register Notice that established the 172 Economic Areas (EAs) are available for public inspection through the Federal Communications Commission's Reference Information Center. These maps and data are also available on the FCC website at www.fcc.gov/oet/info/maps/areas/.

* * * * *

[FR Doc. 2023-07066 Filed 4-7-23; 8:45 am]

BILLING CODE 6712-01-P